DEPARTMENT OF HOUSING AND URBAN DEVELOPMENT

[Docket No. FR-5186-N-33]

Federal Property Suitable as Facilities To Assist the Homeless

AGENCY: Office of the Assistant Secretary for Community Planning and Development, HUD.

ACTION: Notice.

SUMMARY: This Notice identifies unutilized, underutilized, excess, and surplus Federal property reviewed by HUD for suitability for possible use to assist the homeless.

FOR FURTHER INFORMATION CONTACT: Kathy Ezzell, Department of Housing and Urban Development, 451 Seventh Street, SW., Room 7266, Washington, DC 20410; telephone (202) 708-1234; TTY number for the hearing- and speech-impaired (202) 708-2565 (these telephone numbers are not toll-free), or call the toll-free Title V information line at 800-927-7588.

SUPPLEMENTARY INFORMATION: In accordance with 24 CFR part 581 and section 501 of the Stewart B. McKinney Homeless Assistance Act (42 U.S.C. 11411), as amended, HUD is publishing this Notice to identify Federal buildings and other real property that HUD has reviewed for suitability for use to assist the homeless. The properties were reviewed using information provided to HUD by Federal landholding agencies regarding unutilized and underutilized buildings and real property controlled by such agencies or by GSA regarding its inventory of excess or surplus Federal property. This Notice is also published in order to comply with the December 12, 1988 Court Order in National Coalition for the Homeless v. Veterans Administration, No. 88-2503-OG (D.D.C.).

Properties reviewed are listed in this Notice according to the following categories: Suitable/available, suitable/unavailable, suitable/to be excess, and unsuitable. The properties listed in the three suitable categories have been reviewed by the landholding agencies, and each agency has transmitted to HUD: (1) Its intention to make the property available for use to assist the homeless, (2) its intention to declare the property excess to the agency's needs, or (3) a statement of the reasons that the property cannot be declared excess or made available for use as facilities to assist the homeless.

Properties listed as suitable/available will be available exclusively for homeless use for a period of 60 days from the date of this Notice. Where property is described as for “off-site use only” recipients of the property will be required to relocate the building to their own site at their own expense. Homeless assistance providers interested in any such property should send a written expression of interest to HHS, addressed to Theresa Rita, Division of Property Management, Program Support Center, HHS, room 5B-17, 5600 Fishers Lane, Rockville, MD 20857; (301) 443-2265. (This is not a toll-free number.) HHS will mail to the interested provider an application packet, which will include instructions for completing the application. In order to maximize the opportunity to utilize a suitable property, providers should submit their written expressions of interest as soon as possible. For complete details concerning the processing of applications, the reader is encouraged to refer to the interim rule governing this program, 24 CFR part 581.

For properties listed as suitable/to be excess, that property may, if subsequently accepted as excess by GSA, be made available for use by the homeless in accordance with applicable law, subject to screening for other Federal use. At the appropriate time, HUD will publish the property in a Notice showing it as either suitable/available or suitable/unavailable.

For properties listed as suitable/unavailable, the landholding agency has decided that the property cannot be declared excess or made available for use to assist the homeless, and the property will not be available.

Properties listed as unsuitable will not be made available for any other purpose for 20 days from the date of this Notice. Homeless assistance providers interested in a review by HUD of the determination of unsuitability should call the toll free information line at 1-800-927-7588 for detailed instructions or write a letter to Mark Johnston at the address listed at the beginning of this Notice. Included in the request for review should be the property address (including zip code), the date of publication in the Federal Register , the landholding agency, and the property number.

For more information regarding particular properties identified in this Notice (i.e. , acreage, floor plan, existing sanitary facilities, exact street address), providers should contact the appropriate landholding agencies at the following addresses: COE: Mr. Walter Hylton, Army Corps of Engineers, Office of Counsel, CECC-R, 441 G Street, NW, Washington, DC 20314-1000; (202)761-7701; GSA: Mr. John Smith, Deputy Assistant Commissioner, General Services Administration, Office of Property Disposal, 18th & F Streets, NW, Washington, DC 20405; (202) 501-0084; NAVY: Mrs. Mary Arndt, Acting Director, Department of the Navy, Real Estate Services, Naval Facilities Engineering Command, Washington Navy Yard, 1322 Patterson Ave., SE., Suite 1000, Washington, DC 20374-5065; (202) 685-9305; VA: Mr. George Szwarcman, Real Property Service, Department of Veterans Affairs, 811 Vermont Avenue, NW., Rm 555, Washington, DC 20420; (202) 565-5398; (These are not toll-free numbers).

Dated: August 7, 2008.
Mark R. Johnston,
Deputy Assistant Secretary for Special Needs.

Title V, Federal Surplus Property Program Federal Register Report for 08/15/2008

Suitable/Available Properties

Building

Arizona

Water Conservation Lab

4331 E. Broadway Rd.

Phoenix AZ 85040

Landholding Agency: GSA

Property Number: 54200820013

Status: Excess

GSA Number: 9-A-AZ-846-1

Comments: 11365 sq. ft. main bldg w/11 additional bldgs. & 66 paved parking spaces, easement restrictions, zoning issue

Colorado

Federal Building

1520 E. Willamette St.

Colorado Springs Co: El Paso CO 80909

Landholding Agency: GSA

Property Number: 54200640004

Status: Excess

GSA Number: 7-G-CO-0660

Comments: 50,363 sq. ft., needs major rehab, available in approx. 24 months, legal constraints

Bldg. 2

VAMC

2121 North Avenue

Grand Junction Co: Mesa CO 81501

Landholding Agency: VA

Property Number: 97200430001

Status: Unutilized

Comments: 3298 sq. ft., needs major rehab, presence of asbestos/lead paint

Suitable/Available Properties

Building

Colorado

Bldg. 3

VAMC

2121 North Avenue

Grand Junction Co: Mesa CO 81501

Landholding Agency: VA

Property Number: 97200430002

Status: Unutilized

Comments: 7275 sq. ft., needs major rehab, presence of asbestos/lead paint

Indiana

Bldg. 105, VAMC

East 38th Street

Marion Co: Grant IN 46952

Landholding Agency: VA

Property Number: 97199230006

Status: Excess

Comments: 310 sq. ft., 1 story stone structure, no sanitary or heating facilities, Natl Register of Historic Places

Bldg. 10

VA Northern Indiana Health Care System

Marion Campus, 1700 East 38th Street

Marion Co: Grant IN 46953

Landholding Agency: VA

Property Number: 97199810002

Status: Underutilized

Comments: 16,361 sq. ft., presence of asbestos, most recent use—psychiatric ward, National Register of Historic Places

Suitable/Available Properties

Building

Indiana

Bldg. 11

VA Northern Indiana Health Care System

Marion Campus, 1700 East 38th Street

Marion Co: Grant IN 46953

Landholding Agency: VA

Property Number: 97199810003

Status: Underutilized

Comments: 16,361 sq. ft., presence of asbestos, most recent use—psychiatric ward, National Register of Historic Places

Bldg. 18

VA Northern Indiana Health Care System

Marion Campus, 1700 East 38th Street

Marion Co: Grant IN 46953

Landholding Agency: VA

Property Number: 97199810004

Status: Underutilized

Comments: 13,802 sq. ft., presence of asbestos, most recent use—psychiatric ward, National Register of Historic Places

Bldg. 25

VA Northern Indiana Health Care System

Marion Campus, 1700 East 38th Street

Marion Co: Grant IN 46953

Landholding Agency: VA

Property Number: 97199810005

Status: Unutilized

Comments: 32,892 sq. ft., presence of asbestos, most recent use—psychiatric ward, National Register of Historic Places

Suitable/Available Properties

Building

Indiana

Bldg. 1

N. Indiana Health Care System

Marion Co: Grant IN 46952

Landholding Agency: VA

Property Number: 97200310001

Status: Unutilized

Comments: 20,287 sq. ft., needs extensive repairs, presence of asbestos, most recent use—patient ward

Bldg. 3

N. Indiana Health Care System

Marion Co: Grant IN 46952

Landholding Agency: VA

Property Number: 97200310002

Status: Unutilized

Comments: 20,550 sq. ft., needs extensive repairs, presence of asbestos, most recent use—patient ward

Bldg. 4

N. Indiana Health Care System

Marion Co: Grant IN 46952

Landholding Agency: VA

Property Number: 97200310003

Status: Unutilized

Comments: 20,550 sq.ft., needs extensive repairs, presence of asbestos, most recent use—patient ward

Suitable/Available Properties

Building

Indiana

Bldg. 13

N. Indiana Health Care System

Marion Co: Grant IN 46952

Landholding Agency: VA

Property Number: 97200310004

Status: Unutilized

Comments: 8971 sq. ft., needs extensive repairs, presence of asbestos, most recent use—office

Bldg. 42

N. Indiana Health Care System

Marion Co: Grant IN 46952

Landholding Agency: VA

Property Number: 97200310007

Status: Unutilized

Comments: 5025 sq. ft., needs extensive repairs, presence of asbestos, most recent use—office

Bldg. 60

N. Indiana Health Care System

Marion Co: Grant IN 46952

Landholding Agency: VA

Property Number: 97200310008

Status: Unutilized

Comments: 18,126 sq. ft., needs extensive repairs, presence of asbestos, most recent use—office

Bldg. 122

N. Indiana Health Care System

Marion Co: Grant IN 46952

Landholding Agency: VA

Property Number: 97200310009

Status: Unutilized

Comments: 37,135 sq. ft., needs extensive repairs, presence of asbestos, most recent use—dining hall/kitchen

Suitable/Available Properties

Building

Kentucky

Green River Lock #3

Rochester Co: Butler KY 42273

Landholding Agency: COE

Property Number: 31199010022

Status: Unutilized

Directions: SR 70 west from Morgantown, KY., approximately 7 miles to site.

Comments: 980 sq. ft.; 2 story wood frame; two story residence; potential utilities; needs major rehab.

Montana

Bldg. 1

Butte Natl Guard

Butte Co: Silverbow MT 59701

Landholding Agency: COE

Property Number: 31200040010

Status: Unutilized

Comments: 22799 sq. ft., presence of asbestos, most recent use—cold storage, off-site use only

Bldg. 2

Butte Natl Guard

Butte Co: Silverbow MT 59701

Landholding Agency: COE

Property Number: 31200040011

Status: Unutilized

Comments: 3292 sq. ft., most recent use—cold storage, off-site use only

Suitable/Available Properties

Building

Montana

Bldg. 3

Butte Natl Guard

Butte Co: Silverbow MT 59701

Landholding Agency: COE

Property Number: 31200040012

Status: Unutilized

Comments: 964 sq. ft., most recent use—cold storage, off-site use only

Bldg. 4

Butte Natl Guard

Butte Co: Silverbow MT 59701

Landholding Agency: COE

Property Number: 31200040013

Status: Unutilized

Comments: 72 sq. ft., most recent use—cold storage, off-site use only

Bldg. 5

Butte Natl Guard

Butte Co: Silverbow MT 59701

Landholding Agency: COE

Property Number: 31200040014

Status: Unutilized

Comments: 1286 sq. ft., most recent use—cold storage, off-site use only

Suitable/Available Properties

Building

New York

Bldg. 3

VA Medical Center

Batavia Co: Genesee NY 14020

Landholding Agency: VA

Property Number: 97200520001

Status: Unutilized

Comments: 5840 sq. ft., needs rehab, presence of asbestos, most recent use—offices, eligible for Natl Register of Historic Places

North Dakota

Facility F-O

Foxtrot

Grand Forks ND

Landholding Agency: GSA

Property Number: 54200820015

Status: Surplus

GSA Number: 7-D-ND-0500

Comments: 5850 sq. ft. facility, asbestos/PCBs/lead based paint, restrictions and covenants

Ohio

Barker Historic House

Willow Island Locks and Dam

Newport Co: Washington OH 45768-9801

Landholding Agency: COE

Property Number: 31199120018

Status: Unutilized

Directions: Located at lock site, downstream of lock and dam structure

Comments: 1600 sq. ft. bldg. with 1/2 acre of land, 2 story brick frame, needs rehab, on Natl Register of Historic Places, no utilities, off-site use only

Suitable/Available Properties

Building

Oklahoma

Maintenance Site

Rt. 1

Tupelo OK 74572

Landholding Agency: GSA

Property Number: 54200820016

Status: Excess

GSA Number: 7-GR-OK-0574

Comments: office/garage/storage, easement restrictions

Pennsylvania

Mahoning Creek Reservoir

New Bethlehem Co: Armstrong PA 16242

Landholding Agency: COE

Property Number: 31199210008

Status: Unutilized

Comments: 1015 sq. ft., 2-story brick residence, off-site use only

Dwelling

Lock 6, Allegheny River, 1260 River Rd.

Freeport Co: Armstrong PA 16229-2023

Landholding Agency: COE

Property Number: 31199620008

Status: Unutilized

Comments: 2652 sq. ft., 3-story brick house, in close proximity to Lock and Dam, available for interim use for nonresidential purposes

Suitable/Available Properties

Building

Pennsylvania

Dwelling

Lock 4, Allegheny River

Natrona Co: Allegheny PA 15065-2609

Landholding Agency: COE

Property Number: 31199710009

Status: Unutilized

Comments: 1664 sq. ft., 2-story brick residence, needs repair, off-site use only

Dwelling #1

Crooked Creek Lake

Ford City Co: Armstrong PA 16226-8815

Landholding Agency: COE

Property Number: 31199740002

Status: Excess

Comments: 2030 sq. ft., most recent use—residential, good condition, off-site use only

Dwelling #2

Crooked Creek Lake

Ford City Co: Armstrong PA 16226-8815

Landholding Agency: COE

Property Number: 31199740003

Status: Excess

Comments: 3045 sq. ft., most recent use—residential, good condition, off-site use only

Govt Dwelling

East Branch Lake

Wilcox Co: Elk PA 15870-9709

Landholding Agency: COE

Property Number: 31199740005

Status: Underutilized

Comments: Approx. 5299 sq. ft., 1-story, most recent use—residence, off-site use only

Suitable/Available Properties

Building

Pennsylvania

Dwelling #1

Loyalhanna Lake

Saltsburg Co: Westmoreland PA 15681-9302

Landholding Agency: COE

Property Number: 31199740006

Status: Excess

Comments: 1996 sq. ft., most recent use—residential, good condition, off-site use only

Dwelling #2

Loyalhanna Lake

Saltsburg Co: Westmoreland PA 15681-9302

Landholding Agency: COE

Property Number: 31199740007

Status: Excess

Comments: 1996 sq. ft., most recent use—residential, good condition, off-site use only

Dwelling #1

Woodcock Creek Lake

Saegertown Co: Crawford PA 16433-0629

Landholding Agency: COE

Property Number: 31199740008

Status: Excess

Comments: 2106 sq. ft., most recent use—residential, good condition, off-site use only

Dwelling #2

Lock 6, 1260 River Road

Freeport Co: Armstrong PA 16229-2023

Landholding Agency: COE

Property Number: 31199740009

Status: Excess

Comments: 2652 sq. ft., most recent use—residential, good condition, off-site use only

Suitable/Available Properties

Building

Pennsylvania

Residence A

2045 Pohopoco Drive

Lehighton Co: Carbon PA 18235

Landholding Agency: COE

Property Number: 31200410007

Status: Unutilized

Comments: 1200 sq. ft., presence of asbestos, off-site use only

West Virginia

SSA District Office

214 North Kanawha St.

Beckley WV 25801

Landholding Agency: GSA

Property Number: 54200820009

Status: Surplus

GSA Number: 4-G-WV-0552

Comments: 4473 sq. ft., presence of asbestos/lead paint, most recent use—offices

Wisconsin

Bldg. 8

VA Medical Center

County Highway E

Tomah Co: Monroe WI 54660

Landholding Agency: VA

Property Number: 97199010056

Status: Underutilized

Comments: 2200 sq. ft., 2 story wood frame, possible asbestos, potential utilities, structural deficiencies, needs rehab.

Suitable/Available Properties

Land

Alabama

VA Medical Center

VAMC

Tuskegee Co: Macon AL 36083

Landholding Agency: VA

Property Number: 97199010053

Status: Underutilized

Comments: 40 acres, buffer to VA Medical Center, potential utilities, undeveloped.

California

Land

4150 Clement Street

San Francisco Co: San Francisco CA 94121

Landholding Agency: VA

Property Number: 97199240001

Status: Underutilized

Comments: 4 acres; landslide area.

Iowa

40.66 acres

VA Medical Center

1515 West Pleasant St.

Knoxville Co: Marion IA 50138

Landholding Agency: VA

Property Number: 97199740002

Status: Unutilized

Comments: golf course, easement requirements

Suitable/Available Properties

Land

Kentucky

Tract 2625

Barkley Lake, Kentucky, and Tennessee

Cadiz Co: Trigg KY 42211

Landholding Agency: COE

Property Number: 31199010025

Status: Excess

Directions: Adjoining the village of Rockcastle.

Comments: 2.57 acres; rolling and wooded.

Tract 2709-10 and 2710-2

Barkley Lake, Kentucky and Tennessee

Cadiz Co: Trigg KY 42211

Landholding Agency: COE

Property Number: 31199010026

Status: Excess

Directions: 2½ miles in a southerly direction from the village of Rockcastle.

Comments: 2.00 acres; steep and wooded.

Tract 2708-1 and 2709-1

Barkley Lake, Kentucky and Tennessee

Cadiz Co: Trigg KY 42211

Landholding Agency: COE

Property Number: 31199010027

Status: Excess

Directions: 2½ miles in a southerly direction from the village of Rockcastle.

Comments: 3.59 acres; rolling and wooded; no utilities.

Suitable/Available Properties

Land

Kentucky

Tract 2800

Barkley Lake, Kentucky and Tennessee

Cadiz Co: Trigg KY 42211

Landholding Agency: COE

Property Number: 31199010028

Status: Excess

Directions: 4½ miles in a southeasterly direction from the village of Rockcastle.

Comments: 544 acres; steep and wooded.

Tract 2915

Barkley Lake, Kentucky and Tennessee

Cadiz Co: Trigg KY 42211

Landholding Agency: COE

Property Number: 31199010029

Status: Excess

Directions: 6½ miles west of Cadiz.

Comments: 5.76 acres; steep and wooded; no utilities.

Tract 2702

Barkley Lake, Kentucky and Tennessee

Cadiz Co: Trigg KY 42211

Landholding Agency: COE

Property Number: 31199010031

Status: Excess

Directions: 1 mile in a southerly direction from the village of Rockcastle.

Comments: 4.90 acres; wooded; no utilities.

Suitable/Available Properties

Land

Kentucky

Tract 4318

Barkley Lake, Kentucky and Tennessee

Canton Co: Trigg KY 42212

Landholding Agency: COE

Property Number: 31199010032

Status: Excess

Directions: Trigg Co. adjoining the city of Canton, KY on the waters of Hopson Creek.

Comments: 8.24 acres; steep and wooded.

Tract 4502

Barkley Lake, Kentucky and Tennessee

Canton Co: Trigg KY 42212

Landholding Agency: COE

Property Number: 31199010033

Status: Excess

Directions: 3½ miles in a southerly direction from Canton, KY.

Comments: 4.26 acres; steep and wooded.

Tract 4611

Barkley Lake, Kentucky and Tennessee

Canton Co: Trigg KY 42212

Landholding Agency: COE

Property Number: 31199010034

Status: Excess

Directions: 5 miles south of Canton, KY.

Comments: 10.51 acres; steep and wooded; no utilities.

Suitable/Available Properties

Land

Kentucky

Tract 4619

Barkley Lake, Kentucky and Tennessee

Canton Co: Trigg KY 42212

Landholding Agency: COE

Property Number: 31199010035

Status: Excess

Directions: 4½ miles south from Canton, KY.

Comments: 2.02 acres; steep and wooded; no utilities.

Tract 4817

Barkley Lake, Kentucky and Tennessee

Canton Co: Trigg KY 42212

Landholding Agency: COE

Property Number: 31199010036

Status: Excess

Directions: 6½ miles south of Canton, KY.

Comments: 1.75 acres; wooded.

Tract 1217

Barkley Lake, Kentucky and Tennessee

Eddyville Co: Lyon KY 42030

Landholding Agency: COE

Property Number: 31199010042

Status: Excess

Directions: On the north side of the Illinois Central Railroad.

Comments: 5.80 acres; steep and wooded.

Suitable/Available Properties

Land

Kentucky

Tract 1906

Barkley Lake, Kentucky and Tennessee

Eddyville Co: Lyon KY 42030

Landholding Agency: COE

Property Number: 31199010044

Status: Excess

Directions: Approximately 4 miles east of Eddyville, KY.

Comments: 25.86 acres; rolling steep and partially wooded; no utilities.

Tract 1907

Barkley Lake, Kentucky and Tennessee

Eddyville Co: Lyon KY 42038

Landholding Agency: COE

Property Number: 31199010045

Status: Excess

Directions: On the waters of Pilfen Creek, 4 miles east of Eddyville, KY

Comments: 8.71 acres; rolling steep and wooded; no utilities.

Tract 2001 #1

Barkley Lake, Kentucky and Tennessee

Eddyville Co: Lyon KY 42030

Landholding Agency: COE

Property Number: 31199010046

Status: Excess

Directions: Approximately 4½ miles east of Eddyville, KY.

Comments: 47.42 acres; steep and wooded; no utilities.

Suitable/Available Properties

Land

Kentucky

Tract 2001 #2

Barkley Lake, Kentucky and Tennessee

Eddyville Co: Lyon KY 42030

Landholding Agency: COE

Property Number: 31199010047

Status: Excess

Directions: Approximately 4½ miles east of Eddyville, KY.

Comments: 8.64 acres; steep and wooded; no utilities.

Tract 2005

Barkley Lake, Kentucky and Tennessee

Eddyville Co: Lyon KY 42030

Landholding Agency: COE

Property Number: 31199010048

Status: Excess

Directions: Approximately 5½ miles east of Eddyville, KY.

Comments: 4.62 acres; steep and wooded; no utilities.

Tract 2307

Barkley Lake, Kentucky and Tennessee

Eddyville Co: Lyon KY 42030

Landholding Agency: COE

Property Number: 31199010049

Status: Excess

Directions: Approximately 7½ miles southeasterly of Eddyville, KY.

Comments: 11.43 acres; steep; rolling and wooded; no utilities.

Suitable/Available Properties

Land

KENTUCKY

Tract 2403

Barkley Lake, Kentucky and Tennessee

Eddyville Co: Lyon KY 42030

Landholding Agency: COE

Property Number: 31199010050

Status: Excess

Directions: 7 miles southeasterly of Eddyville, KY.

Comments: 1.56 acres; steep and wooded; no utilities.

Tract 2504

Barkley Lake, Kentucky and Tennessee

Eddyville Co: Lyon KY 42030

Landholding Agency: COE

Property Number: 31199010051

Status: Excess

Directions: 9 miles southeasterly of Eddyville, KY.

Comments: 24.46 acres; steep and wooded; no utilities.

Tract 214

Barkley Lake, Kentucky and Tennessee

Grand Rivers Co: Lyon KY 42045

Landholding Agency: COE

Property Number: 31199010052

Status: Excess

Directions: South of the Illinois Central Railroad, 1 mile east of the Cumberland River.

Comments: 5.5 acres; wooded; no utilities.

Suitable/Available Properties

Land

Kentucky

Tract 215

Barkley Lake, Kentucky and Tennessee

Grand Rivers Co: Lyon KY 42045

Landholding Agency: COE

Property Number: 31199010053

Status: Excess

Directions: 5 miles southwest of Kuttawa.

Comments: 1.40 acres; wooded; no utilities.

Tract 241

Barkley Lake, Kentucky and Tennessee

Grand Rivers Co: Lyon KY 42045

Landholding Agency: COE

Property Number: 31199010054

Status: Excess

Directions: Old Henson Ferry Road, 6 miles west of Kuttawa, KY.

Comments: 1.26 acres; steep and wooded; no utilities.

Tracts 306, 311, 315 and 325

Barkley Lake, Kentucky and Tennessee

Grand Rivers Co: Lyon KY 42045

Landholding Agency: COE

Property Number: 31199010055

Status: Excess

Directions: 2.5 miles southwest of Kuttawa, KY on the waters of Cypress Creek.

Comments: 38.77 acres; steep and wooded; no utilities.

Suitable/Available Properties

Land

Kentucky

Tracts 2305, 2306, and 2400-1

Barkley Lake, Kentucky and Tennessee

Eddyville Co: Lyon KY 42030

Landholding Agency: COE

Property Number: 31199010056

Status: Excess

Directions: 6½ miles southeasterly of Eddyville, KY

Comments: 97.66 acres; steep rolling and wooded; no utilities

Tracts 5203 and 5204

Barkley Lake, Kentucky and Tennessee

Linton Co: Trigg KY 42212

Landholding Agency: COE

Property Number: 31199010058

Status: Excess

Directions: Village of Linton, KY state highway 1254.

Comments: 0.93 acres; rolling, partially wooded; no utilities.

Tract 5240

Barkley Lake, Kentucky and Tennessee

Linton Co: Trigg KY 42212

Landholding Agency: COE

Property Number: 31199010059

Status: Excess

Directions: 1 mile northwest of Linton, KY.

Comments: 2.26 acres; steep and wooded; no utilities.

Suitable/Available Properties

Land

Kentucky

Tract 4628

Barkley Lake, Kentucky and Tennessee

Canton Co: Trigg KY 42212

Landholding Agency: COE

Property Number: 31199011621

Status: Excess

Directions: 4½ miles south from Canton, KY

Comments: 3.71 acres; steep and wooded; subject to utility easements

Tract 4619-B

Barkley Lake, Kentucky and Tennessee

Canton Co: Trigg KY 42212

Landholding Agency: COE

Property Number: 31199011622

Status: Excess

Directions: 4½ miles south from Canton, KY

Comments: 1.73 acres; steep and wooded; subject to utility easements

Tract 2403-B

Barkley Lake, Kentucky and Tennessee

Eddyville Co: Lyon KY 42038

Landholding Agency: COE

Property Number: 31199011623

Status: Unutilized

Directions: 7 miles southeasterly from Eddyville, KY

Comments: 0.70 acres, wooded; subject to utility easements

Suitable/Available Properties

Land

Kentucky

Tract 241-B

Barkley Lake, Kentucky and Tennessee

Grand Rivers Co: Lyon KY 42045

Landholding Agency: COE

Property Number: 31199011624

Status: Excess

Directions: South of Old Henson Ferry Road, 6 miles west of Kuttawa, KY

Comments: 11.16 acres; steep and wooded; subject to utility easements

Tracts 212 and 237

Barkley Lake, Kentucky and Tennessee

Grand Rivers Co: Lyon KY 42045

Landholding Agency: COE

Property Number: 31199011625

Status: Excess

Directions: Old Henson Ferry Road, 6 miles west of Kuttawa, KY

Comments: 2.44 acres; steep and wooded; subject to utility easements

Tract 215-B

Barkley Lake, Kentucky and Tennessee

Grand Rivers Co: Lyon KY 42045

Landholding Agency: COE

Property Number: 31199011626

Status: Excess

Directions: 5 miles southwest of Kuttawa

Comments: 1.00 acres; wooded; subject to utility easements

Suitable/Available Properties

Land

Kentucky

Tract 233

Barkley Lake, Kentucky and Tennessee

Grand Rivers Co: Lyon KY 42045

Landholding Agency: COE

Property Number: 31199011627

Status: Excess

Directions: 5 miles southwest of Kuttawa

Comments: 1.00 acres; wooded; subject to utility easements

Tract N-819

Dale Hollow Lake Project

Illwill Creek, Hwy 90

Hobart Co: Clinton KY 42601

Landholding Agency: COE

Property Number: 31199140009

Status: Underutilized

Comments: 91 acres, most recent use—hunting, subject to existing easements

Oklahoma

Pine Creek Lake

Section 27

(See County) Co: McCurtain OK

Landholding Agency: COE

Property Number: 31199010923

Status: Unutilized

Comments: 3 acres; no utilities; subject to right of way for Oklahoma State Highway 3

Suitable/Available Properties

Land

Pennsylvania

Mahoning Creek Lake

New Bethlehem Co: Armstrong PA 16242-9603

Landholding Agency: COE

Property Number: 31199010018

Status: Excess

Directions: Route 28 north to Belknap, Road #4

Comments: 2.58 acres; steep and densely wooded

Tracts 610, 611, 612

Shenango River Lake

Sharpsville Co: Mercer PA 16150

Landholding Agency: COE

Property Number: 31199011001

Status: Excess

Directions: I-79 North, I-80 West, Exit Sharon. R18 North 4 miles, left on R518, right on Mercer Avenue

Comments: 24.09 acres; subject to flowage easement

Tracts L24, L26

Crooked Creek Lake

Null Co: Armstrong PA 03051

Landholding Agency: COE

Property Number: 31199011011

Status: Unutilized

Directions: Left bank—55 miles downstream of dam.

Comments: 7.59 acres; potential for utilities.

Suitable/Available Properties

Land

Pennsylvania

Portion of Tract L-21A

Crooked Creek Lake, LR 03051

Ford City Co: Armstrong PA 16226

Landholding Agency: COE

Property Number: 31199430012

Status: Unutilized

Comments: Approximately 1.72 acres of undeveloped land, subject to gas rights.

approx. 16.88

271 Sterrettania Rd.

Erie PA 16506

Landholding Agency: GSA

Property Number: 54200820011

Status: Surplus

GSA Number: 4-D-PA-0810

Comments: vacant land.

Tennessee

Tract 6827

Barkley Lake

Dover Co: Stewart TN 37058

Landholding Agency: COE

Property Number: 31199010927

Status: Excess

Directions: 2½ miles west of Dover, TN.

Comments: .57 acres; subject to existing easements.

Suitable/Available Properties

Land

Tennessee

Tracts 6002-2 and 6010

Barkley Lake

Dover Co: Stewart TN 37058

Landholding Agency: COE

Property Number: 31199010928

Status: Excess

Directions: 3½ miles south of village of Tabaccoport.

Comments: 100.86 acres; subject to existing easements.

Tract 11516

Barkley Lake

Ashland City Co: Dickson TN 37015

Landholding Agency: COE

Property Number: 31199010929

Status: Excess

Directions:½ mile downstream from Cheatham Dam

Comments: 26.25 acres; subject to existing easements.

Tract 2319

J. Percy Priest Dam and Resorvoir

Murfreesboro Co: Rutherford TN 37130

Landholding Agency: COE

Property Number: 31199010930

Status: Excess

Directions: West of Buckeye Bottom Road

Comments: 14.48 acres; subject to existing easements.

Suitable/Available Properties

Land

Tennessee

Tract 2227

J. Percy Priest Dam and Resorvoir

Murfreesboro Co: Rutherford TN 37130

Landholding Agency: COE

Property Number: 31199010931

Status: Excess

Directions: Old Jefferson Pike

Comments: 2.27 acres; subject to existing easements

Tract 2107

J. Percy Priest Dam and Reservoir

Murfreesboro Co: Rutherford TN 37130

Landholding Agency: COE

Property Number: 31199010932

Status: Excess

Directions: Across Fall Creek near Fall Creek camping area.

Comments: 14.85 acres; subject to existing easements

Tracts 2601, 2602, 2603, 2604

Cordell Hull Lake and Dam Project

Doe Row Creek

Gainesboro Co: Jackson TN 38562

Landholding Agency: COE

Property Number: 31199010933

Status: Unutilized

Directions: TN Highway 56

Comments: 11 acres; subject to existing easements

Suitable/Available Properties

Land

Tennessee

Tract 1911

J. Percy Priest Dam and Reservoir

Murfreesboro Co: Rutherford TN 37130

Landholding Agency: COE

Property Number: 31199010934

Status: Excess

Directions: East of Lamar Road

Comments: 6.92 acres; subject to existing easements

Tract 7206

Barkley Lake

Dover Co: Stewart TN 37058

Landholding Agency: COE

Property Number: 31199010936

Status: Excess

Directions: 2½ miles SE of Dover, TN

Comments: 10.15 acres; subject to existing easements.

Tracts 8813, 8814

Barkley Lake

Cumberland Co: Stewart TN 37050

Landholding Agency: COE

Property Number: 31199010937

Status: Excess

Directions: 1½ miles East of Cumberland City.

Comments: 96 acres; subject to existing easements.

Suitable/Available Properties

Land

Tennessee

Tract 8911

Barkley Lake

Cumberland City Co: Montgomery TN 37050

Landholding Agency: COE

Property Number: 31199010938

Status: Excess

Directions: 4 miles east of Cumberland City.

Comments: 7.7 acres; subject to existing easements.

Tract 11503

Barkley Lake

Ashland City Co: Cheatham TN 37015

Landholding Agency: COE

Property Number: 31199010939

Status: Excess

Directions: 2 miles downstream from Cheatham Dam.

Comments: 1.1 acres; subject to existing easements.

Tracts 11523, 11524

Barkley Lake

Ashland City Co: Cheatham TN 37015

Landholding Agency: COE

Property Number: 31199010940

Status: Excess

Directions: 2½ miles downstream from Cheatham Dam.

Comments: 19.5 acres; subject to existing easements.

Suitable/Available Properties

Land

Tennessee

Tract 6410

Barkley Lake

Bumpus Mills Co: Stewart TN 37028

Landholding Agency: COE

Property Number: 31199010941

Status: Excess

Directions: 4½ miles SW. of Bumpus Mills.

Comments: 17 acres; subject to existing easements.

Tract 9707

Barkley Lake

Palmyer Co: Montgomery TN 37142

Landholding Agency: COE

Property Number: 31199010943

Status: Excess

Directions: 3 miles NE. of Palmyer, TN. Highway 149.

Comments: 6.6 acres; subject to existing easements.

Tract 6949

Barkley Lake

Dover Co: Stewart TN 37058

Landholding Agency: COE

Property Number: 31199010944

Status: Excess

Directions: 1½ miles SE. of Dover, TN.

Comments: 29.67 acres; subject to existing easements.

Suitable/Available Properties

Land

Tennessee

Tracts 6005 and 6017

Barkley Lake

Dover Co: Stewart TN 37058

Landholding Agency: COE

Property Number: 31199011173

Status: Excess

Directions: 3 miles south of Village of Tobaccoport

Comments: 5 acres; subject to existing easements

Tracts K-1191, K-1135

Old Hickory Lock and Dam

Hartsville Co: Trousdale TN 37074

Landholding Agency: COE

Property Number: 31199130007

Status: Underutilized

Comments: 54 acres, (portion in floodway), most recent use—recreation.

Tract A-102

Dale Hollow Lake Project

Canoe Ridge, State Hwy 52

Celina Co: Clay TN 38551

Landholding Agency: COE

Property Number: 31199140006

Status: Underutilized

Comments: 351 acres, most recent use—hunting, subject to existing easements

Suitable/Available Properties

Land

Tennessee

Tract A-120

Dale Hollow Lake Project

Swann Ridge, State Hwy No. 53

Celina Co: Clay TN 38551

Landholding Agency: COE

Property Number: 31199140007

Status: Underutilized

Comments: 883 acres, most recent use—hunting, subject to existing easements

Tract D-185

Dale Hollow Lake Project

Ashburn Creek, Hwy No. 53

Livingston Co: Clay TN 38570

Landholding Agency: COE

Property Number: 31199140010

Status: Underutilized

Comments: 97 acres, most recent use—hunting, subject to existing easements

Texas

FAA Outer Marker 18 R/L VYN

1420 Lakeside Pkwy

Flower Mound TX 75028

Landholding Agency: GSA

Property Number: 54200820017

Status: Surplus

GSA Number: 7-U-TX-1090

Comments: 1.428 acres, radar facility

Suitable/Available Properties

Land

Texas

FAA Outer Marker 31R RAA

1600 Cooper Drive

Irving TX 75061

Landholding Agency: GSA

Property Number: 54200820018

Status: Surplus

GSA Number: 7-U-TX-1095

Comments: 0.305 acre, radar facility

FAA Outer Marker 35R AJQ

300 W. Shady Grove

Grand Prairie TX 75050

Landholding Agency: GSA

Property Number: 54200820019

Status: Surplus

GSA Number: 7-U-TX-1094

Comments: 0.674 acre, radar facility

Land

Olin E. Teague Veterans Center

1901 South 1st Street

Temple Co: Bell TX 76504

Landholding Agency: VA

Property Number: 97199010079

Status: Underutilized

Comments: 13 acres, portion formerly landfill, portion near flammable materials, railroad crosses property, potential utilities

Suitable/Available Properties

Land

Wisconsin

VA Medical Center

County Highway E

Tomah Co: Monroe WI 54660

Landholding Agency: VA

Property Number: 97199010054

Status: Underutilized

Comments: 12.4 acres, serves as buffer between center and private property, no utilities.

Suitable/Unavailable Properties

Building

California

Social Security Building

505 North Court Street

Visalia Co: Tulare CA 93291

Landholding Agency: GSA

Property Number: 54200610010

Status: Surplus

GSA Number: 9-G-CA-1643

Comments: 11,727 sq. ft., possible lead paint, most recent use—office

Old Customs House

12 Heffernan Ave.

Calexico CA 92231

Landholding Agency: GSA

Property Number: 54200710016

Status: Surplus

GSA Number: 9-G-CA-1658

Comments: 16,108 sq. ft., possible asbestos/lead paint, zoned commercial, major repairs for long term use, historic building

Suitable/Unavailable Properties

Building

California

Defense Fuel Support Pt.

Estero Bay Facility

Morro Bay CA 93442

Landholding Agency: GSA

Property Number: 54200810001

Status: Surplus

GSA Number: 9-N-CA-1606

Comments: former 10 acre fuel tank farm w/associated bldgs/pipelines/equipment, possible asbestos/PCBs

Illinois

Bldg. 7

Ohio River Locks No. 53

Grand Chain Co: Pulaski IL 62941-9801

Landholding Agency: COE

Property Number: 31199010001

Status: Unutilized

Directions: Ohio River Locks and Dam No. 53 at Grand Chain

Comments: 900 sq. ft.; 1 floor wood frame; most recent use—residence

Bldg. 6

Ohio River Locks No. 53

Grand Chain Co: Pulaski IL 62941-9801

Landholding Agency: COE

Property Number: 31199010002

Status: Unutilized

Directions: Ohio River Locks and Dam No. 53 at Grand Chain

Comments: 900 sq. ft.; one floor wood frame; most recent use—residence

Suitable/Unavailable Properties

Building

Illinois

Bldg. 5

Ohio River Locks No. 53

Grand Chain Co: Pulaski IL 62941-9801

Landholding Agency: COE

Property Number: 31199010003

Status: Unutilized

Directions: Ohio River Locks and Dam No. 53 at Grand Chain

Comments: 900 sq. ft.; one floor wood frame; most recent use—residence

Bldg. 4

Ohio River Locks No. 53

Grand Chain Co: Pulaski IL 62941-9801

Landholding Agency: COE

Property Number: 31199010004

Status: Unutilized

Directions: Ohio River Locks and Dam No. 53 at Grand Chain

Comments: 900 sq. ft.; one floor wood frame; most recent use—residence

Bldg. 3

Ohio River Locks No. 53

Grand Chain Co: Pulaski IL 62941-9801

Landholding Agency: COE

Property Number: 31199010005

Status: Unutilized

Directions: Ohio River Locks and Dam No. 53 at Grand Chain

Comments: 900 sq. ft.; one floor wood frame

Suitable/Unavailable Properties

Building

Illinois

Bldg. 2

Ohio River Locks No. 53

Grand Chain Co: Pulaski IL 62941-9801

Landholding Agency: COE

Property Number: 31199010006

Status: Unutilized

Directions: Ohio River Locks and Dam No. 53 at Grand Chain

Comments: 900 sq. ft.; one floor wood frame; most recent use—residence

Bldg. 1

Ohio River Locks No. 53

Grand Chain Co: Pulaski IL 62941-9801

Landholding Agency: COE

Property Number: 31199010007

Status: Unutilized

Directions: Ohio River Locks and Dam No. 53 at Grand Chain

Comments: 900 sq. ft.; one floor wood frame; most recent use—residence

Indiana

Fed. Bldg./Courthouse

507 State Street

Hammond IN 46320

Landholding Agency: GSA

Property Number: 54200710003

Status: Excess

GSA Number: 1-G-IN-590

Comments: 43,133 sq. ft., presence of asbestos, most recent use—office, National Register of Historic Places.

Suitable/Unavailable Properties

Building

Maine

Border Patrol Station

4 Heald Stream Road

Somerset ME 04945

Landholding Agency: GSA

Property Number: 54200730003

Status: Excess

GSA Number: 1-X-ME-0685-2A

Comments: 1,717 sq. ft. office and garage, possible asbestos/lead paint

Maryland

Former USPO/Office Bldg.

2 West Montgomery Ave.

Rockville MD 20850

Landholding Agency: GSA

Property Number: 54200710018

Status: Surplus

GSA Number: MD-598-1

Comments: 7,430 sq. ft., roof leaks, property use restrictions, groundwater use prohibition

Massachusetts

Federal Office Bldg.

Main & Bridge St.

Springfield MA 01101

Landholding Agency: GSA

Property Number: 54200740002

Status: Excess

GSA Number: MA-6262-1

Comments: 30,000 sq. ft., 27% occupied, recommend complete system upgrade

Suitable/Unavailable Properties

Building

Michigan

Social Security Bldg.

929 Stevens Road

Flint MI 48503

Landholding Agency: GSA

Property Number: 54200720020

Status: Excess

GSA Number: 1-G-MI-822

Comments: 10,283 sq. ft., most recent use—office

Minnesota

Memorial Army Rsv Ctr

1804 3rd Avenue

International Falls Co: Koochiching MN 56649

Landholding Agency: GSA

Property Number: 54200620002

Status: Excess

GSA Number: 1-D-MN-586

Comments: 8,992 sq. ft., presence of asbestos/lead paint, most recent use—admin/storage

Mississippi

Federal Building

200 East Washington St.

Greenwood MS 38930

Landholding Agency: GSA

Property Number: 54200740006

Status: Underutilized

GSA Number: 4-G-MS-0562

Comments: 11,134 sq. ft., presence of asbestos, reserve a 24 month period to relocate Federal tenants

Suitable/Unavailable Properties

Building

Montana

VA MT Healthcare

210 S. Winchester

Miles City Co: Custer MT 59301

Landholding Agency: VA

Property Number: 97200030001

Status: Underutilized

Comments: 18 buildings, total sq. ft. = 123,851, presence of asbestos, most recent use—clinic/office/food production

Nebraska

Environmental Chemistry

Branch Laboratory

420 South 18th St.

Omaha NE 68102

Landholding Agency: GSA

Property Number: 54200810010

Status: Excess

GSA Number: 7-D-NE-532

Comments: 11,250 sq. ft., needs repair, frequent basement flooding, requires large sump pumps, most recent use—laboratory

Suitable/Unavailable Properties

Building

New Jersey

Camp Petricktown Sup. Facility

U.S. Route 130

Pedricktown NJ 08067

Landholding Agency: GSA

Property Number: 54200740005

Status: Excess

GSA Number: 1-D-NJ-0662

Comments: 21 bldgs., need rehab, most recent use—barracks/mess hall/garages/quarters/admin., may be issues w/right of entry, utilities privately controlled, contaminants

New York

Tappan USARC

335 Western Hwy

Tappan Co: Rockland NY 10983

Landholding Agency: GSA

Property Number: 21200510069

Status: Excess

GSA Number: 0000

Comments: 33,537 sq. ft., army reserve center.

Fleet Mgmt. Center

5—32nd Street

Brooklyn NY 11232

Landholding Agency: GSA

Property Number: 54200620015

Status: Surplus

GSA Number: 1-G-NY-0872B

Comments: 12,693 sq. ft., most recent use—motor pool, heavy industrial

Suitable/Unavailable Properties

Building

New York

Federal Building

Brinkerhoff/Margaret Streets

Plattsburgh NY 12901

Landholding Agency: GSA

Property Number: 54200820005

Status: Surplus

GSA Number: 1-G-NY-0898-1A

Comments: 13,833 sq. ft., eligible for National Register of Historic Places w/National Ranking of 5, most recent use—office, federal tenants to relocate in August 2008

North Carolina

USCG Station Bldgs.

Cape Hatteras

Buxton Co: Dare NC

Landholding Agency: GSA

Property Number: 54200720002

Status: Excess

GSA Number: 4-U-ND-0747A

Comments: 5 bldgs./11 Other structures, contamination

North Dakota

Residence #1

Hwy 30/Canadian Border

St. John Co: Rolette ND 58369

Landholding Agency: GSA

Property Number: 54200620005

Status: Excess

GSA Number: 7-G-ND-0504

Comments: 1,300 sq. ft., possible asbestos/lead paint, off-site use only

Suitable/Unavailable Properties

Building

North Dakota

Residence #2

Hwy 30/Canadian Border

St. John Co: Rolette ND 58369

Landholding Agency: GSA

Property Number: 54200620006

Status: Excess

GSA Number: 7-G-ND-0505

Comments: 1,300 sq. ft., possible asbestos/lead paint, off-site use only

Sherwood Garage

Hwy 28

Sherwood Co: Renville ND 58782

Landholding Agency: GSA

Property Number: 54200630002

Status: Surplus

GSA Number: 7-G-ND-0512

Comments: 565 sq. ft., off-site use only

Noonan Garage

Hwy 40

Noonan Co: Divide ND 58765

Landholding Agency: GSA

Property Number: 54200630003

Status: Surplus

GSA Number: 7-G-ND-0511

Comments: 520 sq. ft., presence of asbestos, off-site use only.

Suitable/Unavailable Properties

Building

North Dakota

Westhope Garage

Hwy 83

Westhope Co: Bottineau ND 58793

Landholding Agency: GSA

Property Number: 54200630004

Status: Surplus

GSA Number: 7-G-ND-0513

Comments: 515 sq. ft., off-site use only.

North House

10951 County Road

Hannah Co: Cavalier ND 58239

Landholding Agency: GSA

Property Number: 54200720008

Status: Surplus

GSA Number: 7-X-ND-0515-1A

Comments: 1,128 sq. ft. residence, off-site use only.

South House

10949 County Road

Hannah Co: Cavalier ND 58239

Landholding Agency: GSA

Property Number: 54200720009

Status: Surplus

GSA Number: 7-X-ND-0515-1B

Comments: 1,128 sq. ft. residence, off-site use only.

Suitable/Unavailable Properties

Building

North Dakota

North House

Highway 40

Noonan Co: Divide ND 58765

Landholding Agency: GSA

Property Number: 54200720010

Status: Surplus

GSA Number: 7-X-ND-0517-1A

Comments: 1,564 sq. ft. residence, off-site use only

South House

Highway 40

Noonan Co: Divide ND 58765

Landholding Agency: GSA

Property Number: 54200720011

Status: Surplus

GSA Number: 7-X-ND-0517-1B

Comments: 1,564 sq. ft. residence, off-site use only

North House

Rt. 1, Box 66

Sarles Co: Cavalier ND 58372

Landholding Agency: GSA

Property Number: 54200720012

Status: Surplus

GSA Number: 7-X-ND-0516-1B

Comments: 1,228 sq. ft. residence, off-site use only

Suitable/Unavailable Properties

Building

North Dakota

South House

Rt. 1, Box 67

Sarles Co: Cavalier ND 58372

Landholding Agency: GSA

Property Number: 54200720013

Status: Surplus

GSA Number: 7-X-ND-0516-1A

Comments: 1,228 sq. ft. residence, off-site use only

House #1

10925 Hwy 28

Sherwood Co: Renville ND 58782

Landholding Agency: GSA

Property Number: 54200720014

Status: Surplus

GSA Number: 7-X-ND-0518-1B

Comments: 1,228 sq. ft. residence, off-site use only

House #2

10927 Hwy 28

Sherwood Co: Renville ND 58782

Landholding Agency: GSA

Property Number: 54200720015

Status: Surplus

GSA Number: 7-X-ND-0518-1A

Comments: 1,228 sq. ft. residence, off-site use only

Suitable/Unavailable Properties

Building

North Dakota

North House

10913 Hwy 83

Westhope Co: Bottineau ND 58793

Landholding Agency: GSA

Property Number: 54200720016

Status: Surplus

GSA Number: 7-X-ND-0519-1B

Comments: 1218 sq. ft. residence, off-site use only

South House

10909 Hwy 83

Westhope Co: Bottineau ND 58793

Landholding Agency: GSA

Property Number: 54200720017

Status: Surplus

GSA Number: 7-X-ND-0519-1A

Comments: 1218 sq. ft. residence, off-site use only

Ohio

Bldg.—Berlin Lake

7400 Bedell Road

Berlin Center Co: Mahoning OH 44401-9797

Landholding Agency: COE

Property Number: 31199640001

Status: Unutilized

Comments: 1420 sq. ft., 2-story brick w/garage and basement, most recent use—residential, secured w/alternate access

Suitable/Unavailable Properties

Building

Ohio

Bldg. 116

VA Medical Center

Dayton Co: Montgomery OH 45428

Landholding Agency: VA

Property Number: 97199920002

Status: Unutilized

Comments: 3 floors, potential utilities, needs major rehab, presence of asbestos/lead paint, historic property

Pennsylvania

Tract 403A

Grays Landing Lock Project

Greensboro Co: Greene PA 15338

Landholding Agency: COE

Property Number: 31199430021

Status: Unutilized

Comments: 620 sq. ft., 2-story, needs repair, most recent use—residential, if used for habitation must be flood proofed or removed off-site

Tract 403B

Grays Landing Lock Project

Greensboro Co: Greene PA 15338

Landholding Agency: COE

Property Number: 31199430022

Status: Unutilized

Comments: 1600 sq. ft., 2-story, brick structure, needs repair, most recent use—residential, if used for habitation must be flood proofed or removed off-site

Suitable/Unavailable Properties

Building

Pennsylvania

Tract 403C

Grays Landing Lock Project

Greensboro Co: Greene PA 15338

Landholding Agency: COE

Property Number: 31199430023

Status: Unutilized

Comments: 672 sq. ft., 2-story carriage house/stable barn type structure, needs repair, most recent use—storage/garage, if used for habitation must be flood proofed or removed

Samoa

6 Housing Units

Lima & FA Streets

Tafuna AQ 96799

Landholding Agency: GSA

Property Number: 54200710001

Status: Surplus

GSA Number: 9-U-AS-002

Comments: 1722 or 1354 sq. ft., must negotiate long-term ground lease w/the Govt of American Samoa

Unit #25

Lima & FA Streets

Tafuna AQ

Landholding Agency: GSA

Property Number: 54200740001

Status: Surplus

GSA Number: 9-U-AS-002AB

Comments: 1722 sq. ft., presence of lead paint, most recent use—residential, off-site use only or negotiate ground lease with local govt.

Suitable/Unavailable Properties

Building

Texas

Bldgs. 5, 6, 7

Federal Center

501 West Felix Street

Ft. Worth Co: Tarrant TX 76115

Landholding Agency: GSA

Property Number: 54200640002

Status: Excess

GSA Number: 7-G-TX-0767-3

Comments: 3 warehouses with concrete foundation, off-site use only

Utah

ILS Middle Marker Annex

NE of Hill AFB

Tooele UT 84056

Landholding Agency: GSA

Property Number: 54200820004

Status: Excess

GSA Number: 7-D-UT-0421-AD

Comments: 320 sq. ft. metal bldg., 0.872 acres and 3.5 acres perpetual easements

Virginia

142.67 acres/7 Bldgs.

Pepermeir Hill Road

U.S. Geological Survey

Corbin VA 22446

Landholding Agency: GSA

Property Number: 54200630020

Status: Excess

GSA Number: 4-I-VA-0748

Comments: various sq. ft., most recent use—research/development/calibration lab/test measuring circuit

Suitable/Unavailable Properties

Building

Wisconsin

Bldg. 2

VA Medical Center

5000 West National Ave.

Milwaukee WI 53295

Landholding Agency: VA

Property Number: 97199830002

Status: Underutilized

Comments: 133,730 sq. ft., needs rehab, presence of asbestos/lead paint, most recent use—storage

Land

Arizona

Parking Lot

322 n 2nd Ave.

Phoenix AZ 85003

Landholding Agency: GSA

Property Number: 54200740007

Status: Surplus

GSA Number: AZ-6293-1

Comments: approx. 21,000 sq. ft., parcel in OU3 study area for clean-up

Suitable/Unavailable Properties

Land

Colorado

Northgate Stockpile Storage

Jackson CO 80480

Landholding Agency: GSA

Property Number: 54200740011

Status: Surplus

GSA Number: 7-D-CO-0645

Comments: 16.11 acres, uneven terrain, no utilities, restrictions/covenants

Illinois

Lake Shelbyville

Shelbyville Co: Shelby IL 62565-9804

Landholding Agency: COE

Property Number: 31199240004

Status: Unutilized

Comments: 5 parcels of land equalling 0.70 acres, improved w/4 small equipment storage bldgs. and a small access road, easement restrictions

Iowa

38 acres

VA Medical Center

1515 West Pleasant St.

Knoxville Co: Marion IA 50138

Landholding Agency: VA

Property Number: 97199740001

Status: Unutilized

Comments: golf course

Suitable/Unavailable Properties

Land

Kentucky

Tract S-2

3301 Leestown Road

Lexington Co: Fayette KY 40511

Landholding Agency: GSA

Property Number: 54200630016

Status: Excess

GSA Number: 4-J-KY-0622

Comments: 40.2 acres/hayfield, potential of sinkholes, potential contamination from adjacent site

Tract V—Parcel B

3301 Leestown Road

Lexington KY 40511

Landholding Agency: GSA

Property Number: 54200730002

Status: Excess

GSA Number: 4-G-KY-0528-1B

Comments: 52 acres w/landfill monitored by Bureau of Prisons IAW Kentucky Dept. of Env. Protection regulations

Maryland

3.54 acres

Andrews AFB

Upper Marlboro MD

Landholding Agency: GSA

Property Number: 54200810005

Status: Surplus

GSA Number: MD(R-11)0598-1

Comments: strip parcel of land w/limited development potential

Suitable/Unavailable Properties

Land

Michigan

VA Medical Center

5500 Armstrong Road

Battle Creek Co: Calhoun MI 49016

Landholding Agency: VA

Property Number: 97199010015

Status: Underutilized

Comments: 20 acres, used as exercise trails and storage areas, potential utilities

North Dakota

14 Former Launch

Control Facilities

Grand Forks AFB

Grand Forks ND

Landholding Agency: GSA

Property Number: 54200810006

Status: Surplus

GSA Number: 7-D-ND-0500

Comments: 10.17 acres each, contaminants, easements, farmland restrictions/wetland restrictions

Oklahoma

Tracts 107, 202

Candy Lake Project

Osage OK

Landholding Agency: GSA

Property Number: 54200710004

Status: Surplus

GSA Number: 7-D-OK-0529-1-F, U

Comments: 604.92 acres, cattle grazing

Suitable/Unavailable Properties

Land

Oregon

20 acres

Cow Hollow Park

Nyssa OR 97913

Landholding Agency: GSA

Property Number: 54200820007

Status: Excess

GSA Number: 9-I-OR-769

Comments: 20 acres w/shower/restroom, eligible for listing on Historic Register

Pennsylvania

East Branch Clarion River Lake

Wilcox Co: Elk PA

Landholding Agency: COE

Property Number: 31199011012

Status: Underutilized

Directions: Free camping area on the right bank off entrance roadway.

Comments: 1 acre; most recent use—free campground

Dashields Locks and Dam

(Glenwillard, PA)

Crescent Twp. Co: Allegheny PA 15046-0475

Landholding Agency: COE

Property Number: 31199210009

Status: Unutilized

Comments: 0.58 acres, most recent use—baseball field

Suitable/Unavailable Properties

Land

Pennsylvania

VA Medical Center

New Castle Road

Butler Co: Butler PA 16001

Landholding Agency: VA

Property Number: 97199010016

Status: Underutilized

Comments: Approx. 9.29 acres, used for patient recreation, potential utilities

Land No. 645

VA Medical Center

Highland Drive

Pittsburgh Co: Allegheny PA 15206

Landholding Agency: VA

Property Number: 97199010080

Status: Unutilized

Directions: Between Campania and Wiltsie Streets.

Comments: 90.3 acres, heavily wooded, property includes dump area and numerous site storm drain outfalls

Land—34.16 acres

VA Medical Center

1400 Black Horse Hill Road

Coatesville Co: Chester PA 19320

Landholding Agency: VA

Property Number: 97199340001

Status: Underutilized

Comments: 34.16 acres, open field, most recent use—recreation/buffer

Suitable/Unavailable Properties

Land

Washington

Bremerton Lot

E. 16th & Trenton Ave

Kitsap WA 98310

Landholding Agency: GSA

Property Number: 54200740012

Status: Excess

GSA Number: 9-G-WA-1237

Comments: 1500 sq. ft., small size

Suitable/To Be Excessed

Land

Georgia

Lake Sidney Lanier

Null Co: Forsyth GA 30130

Landholding Agency: COE

Property Number: 31199440010

Status: Unutilized

Directions: Located on Two Mile Creek adj. to State Route 369

Comments: 0.25 acres, endangered plant species

Lake Sidney Lanier—3 parcels

Gainesville Co: Hall GA 30503

Landholding Agency: COE

Property Number: 31199440011

Status: Unutilized

Directions: Between Gainesville H.S. and State Route 53 By-Pass

Comments: 3 parcels totalling 5.17 acres, most recent use—buffer zone, endangered plant species

Suitable/To Be Excessed

Land

Massachusetts

Buffumville Dam

Flood Control Project

Gale Road

Carlton Co: Worcester MA 01540-0155

Landholding Agency: COE

Property Number: 31199010016

Status: Excess

Directions: Portion of tracts B-200, B-248, B-251, B-204, B-247, B-200 and B-256

Comments: 1.45 acres

Tennessee

Tract D-456

Cheatham Lock and Dam

Ashland Co: Cheatham TN 37015

Landholding Agency: COE

Property Number: 31199010942

Status: Excess

Directions: Right downstream bank of Sycamore Creek

Comments: 8.93 acres; subject to existing easements

Suitable/To Be Excessed

Land

Texas

Corpus Christi Ship Channel

Corpus Christi Co: Neuces TX

Landholding Agency: COE

Property Number: 31199240001

Status: Unutilized

Directions: East side of Carbon Plant Road, approx. 14 miles NW of downtown Corpus Christi

Comments: 4.4 acres, most recent use—farm land

Unsuitable Properties

Building

Alabama

Comfort Station

Clailborne Lake

Camden AL 36726

Landholding Agency: COE

Property Number: 31200540001

Status: Unutilized

Reasons: Extensive deterioration

Pumphouse

Dannelly Reservoir

Camden AL 36726

Landholding Agency: COE

Property Number: 31200540002

Status: Unutilized

Reasons: Extensive deterioration

Unsuitable Properties

Building

Alabama

Bldg. 7

VA Medical Center

Tuskegee Co: Macon AL 36083

Landholding Agency: VA

Property Number: 97199730001

Status: Underutilized

Reasons: Secured Area

Bldg. 8

VA Medical Center

Tuskegee Co: Macon AL 36083

Landholding Agency: VA

Property Number: 97199730002

Status: Underutilized

Reasons: Secured Area

Alaska

Admin. Site

624 Mill St.

Ketchikan Co: Gateway AK 99901

Landholding Agency: GSA

Property Number: 54200740004

Status: Excess

GSA Number: 9-I-AK-6296-1

Reasons: Within 2000 ft. of flammable or explosive material

Unsuitable Properties

Building

Arkansas

Dwelling

Bull Shoals Lake/Dry Run Road

Oakland Co: Marion AR 72661

Landholding Agency: COE

Property Number: 31199820001

Status: Unutilized

Reasons: Extensive deterioration

Helena Casting Plant

Helena Co: Phillips AR 72342

Landholding Agency: COE

Property Number: 31200220001

Status: Unutilized

Reasons: Extensive deterioration

BSHOAL-43560

Mountain Home Project

Mountain Home AR 72653

Landholding Agency: COE

Property Number: 31200630001

Status: Unutilized

Reasons: Extensive deterioration

BSHOAL-43561

Mountain Home Project

Mountain Home AR 72653

Landholding Agency: COE

Property Number: 31200630002

Status: Unutilized

Reasons: Extensive deterioration

Unsuitable Properties

Building

Arkansas

BSHOAL-43652

Mountain Home Project

Mountain Home AR 72653

Landholding Agency: COE

Property Number: 31200630003

Status: Unutilized

Reasons: Extensive deterioration

NRFORK-48769

Mountain Home Project

Mountain Home AR 72653

Landholding Agency: COE

Property Number: 31200630004

Status: Unutilized

Reasons: Extensive deterioration

Bldgs. 43336, 44910, 44949

Nimrod-Blue Mountain Project

Plainview AR 72858

Landholding Agency: COE

Property Number: 31200630005

Status: Unutilized

Reasons: Extensive deterioration

Bldgs. 44913, 44925

Nimrod-Blue Mountain Project

Plainview AR 72857

Landholding Agency: COE

Property Number: 31200630006

Status: Unutilized

Reasons: Extensive deterioration

Unsuitable Properties

Building

Arkansas

Well House

Mountain Home Project

Mountain Home AR 72653

Landholding Agency: COE

Property Number: 31200820001

Status: Unutilized

Reasons: Secured Area

California

Soil Testing Lab

Sausalito CA 00000

Landholding Agency: COE

Property Number: 31199920002

Status: Excess

Reasons: Other—contamination

Bldg. S 00108

Sharpe

Lathrop CA 95231

Landholding Agency: COE

Property Number: 31200820002

Status: Underutilized

Reasons: Secured Area

March Water Annex 2

Perris CA

Landholding Agency: GSA

Property Number: 54200810004

Status: Excess

GSA Number: 9-D-CA-1211

Reasons: Within airport runway clear zone

Unsuitable Properties

Building

Connecticut

Hezekiah S. Ramsdell Farm

West Thompson Lake

North Grosvenordale Co: Windham CT 06255-9801

Landholding Agency: COE

Property Number: 31199740001

Status: Unutilized

Reasons: Floodway—Extensive deterioration

Florida

Bldg. SF-17

Sub-Office Operations

Clewiston Co: Hendry FL 33440

Landholding Agency: COE

Property Number: 31200430005

Status: Unutilized

Reasons: Extensive deterioration—Secured Area

Bldg. SF-33

Franklin Lock

Alva Co: Lee FL 33920

Landholding Agency: COE

Property Number: 31200620008

Status: Unutilized

Reasons: Extensive deterioration

Unsuitable Properties

Building

Florida

Bldg. 25

(f) Richmond Naval Air Station

15810 SW 129th Ave.

Miami Co: Dade FL 33177

Landholding Agency: COE

Property Number: 31200620031

Status: Excess

Reasons: Extensive deterioration

Bldg. SF-14

S. Florida Operations Ofc. Reservation

Clewiston Co: Hendry FL 33440

Landholding Agency: COE

Property Number: 31200710001

Status: Unutilized

Reasons: Secured Area

Bldg. L-10

Jim Woodruff Reservoir

Chattachoochee FL 32324

Landholding Agency: COE

Property Number: 31200820003

Status: Unutilized

Reasons: Extensive deterioration

Unsuitable Properties

Building

Florida

Army Rsv Aviation Support

Facility 49

8601 Avenue B

Orlando FL 32827

Landholding Agency: GSA

Property Number: 54200820002

Status: Excess

GSA Number: 4-D-FL-705-6EO

Reasons: Within airport runway clear zone

Georgia

Bldg. #WRSH18

West Point Lake

West Point GA 31833

Landholding Agency: COE

Property Number: 31200430006

Status: Unutilized

Reasons: Secured Area

Bldg. W03

West Point Lake

West Point GA 31833

Landholding Agency: COE

Property Number: 31200430007

Status: Unutilized

Reasons: Secured Area—Extensive deterioration—Within 2000 ft. of flammable or explosive material

Unsuitable Properties

Building

Georgia

Gatehouse #W03

West Point Lake

West Point GA 31833-9517

Landholding Agency: COE

Property Number: 31200510001

Status: Unutilized

Reasons: Extensive deterioration

WRSH14, WRSH15, WRSH18

West Point Lake

West Point GA 31833-9517

Landholding Agency: COE

Property Number: 31200510002

Status: Unutilized

Reasons: Extensive deterioration

Pumphouse

Carters Lake

Oakman GA 30732

Landholding Agency: COE

Property Number: 31200520002

Status: Unutilized

Reasons: Extensive deterioration

Vault Toilet

Lake Sidney Lanier

Buford GA 30518

Landholding Agency: COE

Property Number: 31200540003

Status: Unutilized

Reasons: Extensive deterioration

Unsuitable Properties

Building

Georgia

Bldg. WC-19

Walter F. George Lake

Fort Gaines GA 39851

Landholding Agency: COE

Property Number: 31200630007

Status: Unutilized

Reasons: Extensive deterioration

Radio Room

Walter F. George Lake

Fort Gaines GA 39851

Landholding Agency: COE

Property Number: 31200640004

Status: Unutilized

Reasons: Extensive deterioration

Bldg. JST-16711

Hesters Ferry Campground

Lincoln GA

Landholding Agency: COE

Property Number: 31200710002

Status: Unutilized

Reasons: Extensive deterioration

4 Bldgs.

West Point Lake

WH16, WH18, WR02, WA03

West Point GA 31833

Landholding Agency: COE

Property Number: 31200820004

Status: Unutilized

Reasons: Extensive deterioration

Unsuitable Properties

Building

Georgia

Pumphouse

Carters Lake

Oakman GA 30732

Landholding Agency: COE

Property Number: 31200820005

Status: Unutilized

Reasons: Extensive deterioration

4 Stables

Di-Lane Plantation

Elberton GA 30635

Landholding Agency: COE

Property Number: 31200820006

Status: Unutilized

Reasons: Extensive deterioration

Idaho

Bldg. AFD0070

Albeni Falls Dam

Oldtown Co: Bonner ID 83822

Landholding Agency: COE

Property Number: 31199910001

Status: Unutilized

Reasons: Extensive deterioration

Unsuitable Properties

Building

Idaho

RCLR Facility

State Hwy 69

Meridian ID 83704

Landholding Agency: GSA

Property Number: 54200820014

Status: Excess

GSA Number: 9-U-ID-566

Reasons: Within 2000 ft. of flammable or explosive material

Illinois

Bldg. CB562-7141

Wilborn Creek

Shelbyville IL 62565

Landholding Agency: COE

Property Number: 31200620009

Status: Excess

Reasons: Extensive deterioration

Bldg. CB562-7153

Wilborn Creek

Shelbyville IL 62565

Landholding Agency: COE

Property Number: 31200620010

Status: Excess

Reasons: Extensive deterioration

Unsuitable Properties

Building

Illinois

Bldg. CB562-7162

Bo Wood

Shelbyville IL 62565

Landholding Agency: COE

Property Number: 31200620011

Status: Excess

Reasons: Extensive deterioration

Bldg. CB562-7163

Bo Wood

Shelbyville IL 62565

Landholding Agency: COE

Property Number: 31200620012

Status: Excess

Reasons: Extensive deterioration

Bldg. CB562-7164

Bo Wood

Shelbyville IL 62565

Landholding Agency: COE

Property Number: 31200620013

Status: Excess

Reasons: Extensive deterioration

Bldg. CB562-7165

Bo Wood

Shelbyville IL 62565

Landholding Agency: COE

Property Number: 31200620014

Status: Excess

Reasons: Extensive deterioration

Unsuitable Properties

Building

Illinois

Bldg. CB562-7196

Whitley Creek

Shelbyville IL 62565

Landholding Agency: COE

Property Number: 31200620015

Status: Excess

Reasons: Extensive deterioration

Bldg. CB562-7197

Whitley Creek

Shelbyville IL 62565

Landholding Agency: COE

Property Number: 31200620016

Status: Excess

Reasons: Extensive deterioration

Bldg. CB562-7199

Whitley Creek

Shelbyville IL 62565

Landholding Agency: COE

Property Number: 31200620017

Status: Excess

Reasons: Extensive deterioration

Bldg. CB562-7200

Whitley Creek

Shelbyville IL 62565

Landholding Agency: COE

Property Number: 31200620018

Status: Excess

Reasons: Extensive deterioration

Unsuitable Properties

Building

Illinois

Bldg. CB562-9042

Whitley Creek

Shelbyville IL 62565

Landholding Agency: COE

Property Number: 31200620019

Status: Excess

Reasons: Extensive deterioration

Bldg. CB639-7876

Rend Lake

Benton IL 62812

Landholding Agency: COE

Property Number: 31200620020

Status: Excess

Reasons: Extensive deterioration

Fee Booth

Bo Wood Recreation Area

Shelbyville IL 62565

Landholding Agency: COE

Property Number: 31200630008

Status: Unutilized

Reasons: Extensive deterioration

Comfort Station

Rend Lake

Benton IL 62812

Landholding Agency: COE

Property Number: 31200710004

Status: Excess

Reasons: Extensive deterioration

Unsuitable Properties

Building

Illinois

Comfort Station

Rend Lake Project

Benton IL 62812

Landholding Agency: COE

Property Number: 31200740001

Status: Excess

Reasons: Extensive deterioration

Indiana

Bldg. 62, VA Medical Center

East 38th Street

Marion Co: Grant IN 46952

Landholding Agency: VA

Property Number: 97199230003

Status: Excess

Reasons: Extensive deterioration

Iowa

Treatment Plant

South Fork Park

Mystic Co: Appanoose IA 52574

Landholding Agency: COE

Property Number: 31200220002

Status: Excess

Reasons: Extensive deterioration

Unsuitable Properties

Building

Iowa

Storage Bldg.

Rathbun Project

Moravia Co: Appanoose IA 52571

Landholding Agency: COE

Property Number: 31200330001

Status: Excess

Reasons: Extensive deterioration

Bldg.

Island View Park

Rathbun Project

Centerville Co: Appanoose IA 52544

Landholding Agency: COE

Property Number: 31200330002

Status: Excess

Reasons: Extensive deterioration

Tract 137

Camp Dodge

Johnston Co: Polk IA 50131-1902

Landholding Agency: COE

Property Number: 31200410001

Status: Excess

Reasons: Extensive deterioration

Rathbun 29369, 29368

Island View park

Centerville Co: Appanoose IA 52544

Landholding Agency: COE

Property Number: 31200510003

Status: Excess

Reasons: Extensive deterioration

Unsuitable Properties

Building

Iowa

RTHBUN-79326

Buck Creek Park

Centerville Co: Appanoose IA 52544

Landholding Agency: COE

Property Number: 31200520004

Status: Excess

Reasons: Extensive deterioration

Bldg.

Buck Creek Park

Centerville Co: Appanoose IA 52544

Landholding Agency: COE

Property Number: 31200610001

Status: Excess

Reasons: Extensive deterioration

Kansas

No. 01017

Kanopolis Project

Marquette Co: Ellsworth KS 67456

Landholding Agency: COE

Property Number: 31200210001

Status: Unutilized

Reasons: Extensive deterioration

No. 01020

Kanopolis Project

Marquette Co: Ellsworth KS 67456

Landholding Agency: COE

Property Number: 31200210002

Status: Unutilized

Reasons: Extensive deterioration

Unsuitable Properties

Building

Kansas

No. 61001

Kanopolis Project

Marquette Co: Ellsworth KS 67456

Landholding Agency: COE

Property Number: 31200210003

Status: Unutilized

Reasons: Extensive deterioration

Bldg. #1

Kanopolis Project

Marquette Co: Ellsworth KS 67456

Landholding Agency: COE

Property Number: 31200220003

Status: Excess

Reasons: Extensive deterioration

Bldg. #2

Kanopolis Project

Marquette Co: Ellsworth KS 67456

Landholding Agency: COE

Property Number: 31200220004

Status: Excess

Reasons: Extensive deterioration

Bldg. #4

Kanopolis Project

Marquette Co: Ellsworth KS 67456

Landholding Agency: COE

Property Number: 31200220005

Status: Excess

Reasons: Extensive deterioration

Unsuitable Properties

Building

Kansas

Comfort Station

Clinton Lake Project

Lawrence Co: Douglas KS 66049

Landholding Agency: COE

Property Number: 31200220006

Status: Excess

Reasons: Extensive deterioration

Privie

Perry Lake

Perry Co: Jefferson KS 66074

Landholding Agency: COE

Property Number: 31200310004

Status: Unutilized

Reasons: Extensive deterioration

Shower

Perry Lake

Perry Co: Jefferson KS 66073

Landholding Agency: COE

Property Number: 31200310005

Status: Unutilized

Reasons: Extensive deterioration

Tool Shed

Perry Lake

Perry Co: Jefferson KS 66073

Landholding Agency: COE

Property Number: 31200310006

Status: Unutilized

Reasons: Extensive deterioration

Unsuitable Properties

Building

Kansas

Bldg. M37

Minooka Park

Sylvan Grove Co: Russell KS 67481

Landholding Agency: COE

Property Number: 31200320002

Status: Excess

Reasons: Extensive deterioration

Bldg. M38

Minooka Park

Sylvan Grove Co: Russell KS 67481

Landholding Agency: COE

Property Number: 31200320003

Status: Excess

Reasons: Extensive deterioration

Bldg. L19

Lucas Park

Sylvan Grove Co: Russell KS 67481

Landholding Agency: COE

Property Number: 31200320004

Status: Unutilized

Reasons: Extensive deterioration

2 Bldgs.

Tuttle Creek Lake

Near Shelters #3 & #4

Riley KS 66502

Landholding Agency: COE

Property Number: 31200330003

Status: Excess

Reasons: Extensive deterioration

Unsuitable Properties

Building

Kansas

6 Bldgs.

Cottonwood Point/Hillsboro Cove

Marion Co: Coffey KS 66861

Landholding Agency: COE

Property Number: 31200340001

Status: Excess

Reasons: Extensive deterioration

20 Bldgs.

Riverside

Burlington Co: Coffey KS 66839-8911

Landholding Agency: COE

Property Number: 31200340002

Status: Excess

Reasons: Extensive deterioration

2 Bldgs.

Canning Creek/Richey Cove

Council Grove Co: Morris KS 66846-9322

Landholding Agency: COE

Property Number: 31200340003

Status: Excess

Reasons: Extensive deterioration

6 Bldgs.

Santa Fe Trail/Outlet Channel

Council Grove Co: Morris KS 66846

Landholding Agency: COE

Property Number: 31200340004

Status: Excess

Reasons: Extensive deterioration

Unsuitable Properties

Building

Kansas

Residence

Melvern Lake Project

Melvern Co: Osage KS 66510

Landholding Agency: COE

Property Number: 31200340005

Status: Excess

Reasons: Extensive deterioration

2 Bldgs.

Management Park

Vassar KS 66543

Landholding Agency: COE

Property Number: 31200340006

Status: Excess

Reasons: Extensive deterioration

Bldg.

Hickory Campground

Lawrence KS 66049

Landholding Agency: COE

Property Number: 31200340007

Status: Excess

Reasons: Extensive deterioration

Bldg.

Rockhaven Park Area

Lawrence KS 66049

Landholding Agency: COE

Property Number: 31200340008

Status: Excess

Reasons: Extensive deterioration

Unsuitable Properties

Building

Kansas

Bldg.

Overlook Park Area

Lawrence KS 66049

Landholding Agency: COE

Property Number: 31200340009

Status: Excess

Reasons: Extensive deterioration

Bldg.

Walnut Campground

Lawrence KS 66049

Landholding Agency: COE

Property Number: 31200340010

Status: Excess

Reasons: Extensive deterioration

Bldg.

Cedar Ridge Campground

Lawrence KS 66049

Landholding Agency: COE

Property Number: 31200340011

Status: Excess

Reasons: Extensive deterioration

Bldg.

Woodridge Park Area

Lawrence KS 66049

Landholding Agency: COE

Property Number: 31200340012

Status: Excess

Reasons: Extensive deterioration

Unsuitable Properties

Building

Kansas

8 Bldgs.

Tuttle Cove Park

Manhattan Co: Riley KS 66502

Landholding Agency: COE

Property Number: 31200410002

Status: Unutilized

Reasons: Extensive deterioration

2 Bldgs.

Old Garrison Campground

Pottawatomie KS

Landholding Agency: COE

Property Number: 31200410003

Status: Unutilized

Reasons: Extensive deterioration

2 Bldgs.

School Creek ORV Area

Junction City KS 66441

Landholding Agency: COE

Property Number: 31200410004

Status: Excess

Reasons: Extensive deterioration

Bldg.

Slough Creek Park

Perry Co: Jefferson KS 66073

Landholding Agency: COE

Property Number: 31200410005

Status: Excess

Reasons: Extensive deterioration

Unsuitable Properties

Building

Kansas

Bldg.

Spillway Boat Ramp

Sylvan Grove KS 67481

Landholding Agency: COE

Property Number: 31200430008

Status: Excess

Reasons: Extensive deterioration

Bldg.

Minooka Park Area

Sylvan Grove KS 67481

Landholding Agency: COE

Property Number: 31200430009

Status: Excess

Reasons: Extensive deterioration

Bldg.

Lucas Park Area

Sylvan Grove KS 67481

Landholding Agency: COE

Property Number: 31200430010

Status: Excess

Reasons: Extensive deterioration

Bldg.

Sylvan Park Area

Sylvan Grove KS 67481

Landholding Agency: COE

Property Number: 31200430011

Status: Excess

Reasons: Extensive deterioration

Unsuitable Properties

Building

Kansas

Bldg.

North Outlet Area

Junction City KS 66441

Landholding Agency: COE

Property Number: 31200430012

Status: Excess

Reasons: Extensive deterioration

3 Vault Toilets

West Rolling Hills

Milford Lake

Junction City KS 66441

Landholding Agency: COE

Property Number: 31200440003

Status: Excess

Reasons: Extensive deterioration

Vault Toilet

East Rolling Hills

Milford Lake

Junction City KS 66441

Landholding Agency: COE

Property Number: 31200440004

Status: Excess

Reasons: Extensive deterioration

Unsuitable Properties

Building

Kansas

Bldgs. 25002, 35012

Lucas Park

Sylvan Grove KS 67481

Landholding Agency: COE

Property Number: 31200510004

Status: Excess

Reasons: Extensive deterioration

Bldgs. 25006, 25038

Lucas Group Camp

Sylvan Grove KS 67481

Landholding Agency: COE

Property Number: 31200510005

Status: Excess

Reasons: Extensive deterioration

Bldgs. L37, L38

Lucas Park

Sylvan Grove KS 67481

Landholding Agency: COE

Property Number: 31200520005

Status: Excess

Reasons: Extensive deterioration

2 Bldgs.

Mann's Cove PUA

Fall River Co: Greenwood KS 67047

Landholding Agency: COE

Property Number: 31200530002

Status: Excess

Reasons: Extensive deterioration

Unsuitable Properties

Building

Kansas

16 Bldgs.

Cottonwood Point

Marion KS

Landholding Agency: COE

Property Number: 31200530003

Status: Excess

Reasons: Extensive deterioration

3 Bldgs.

Damsite PUA

Fall River Co: Greenwood KS 67047

Landholding Agency: COE

Property Number: 31200530004

Status: Excess

Reasons: Extensive deterioration

2 Bldgs.

Damsite PUA

Fall River Co: Greenwood KS 67047

Landholding Agency: COE

Property Number: 31200530005

Status: Excess

Reasons: Extensive deterioration

Bldgs. L05, L06

Lucas Park Overlook

Sylvan Grove KS 67481

Landholding Agency: COE

Property Number: 31200530006

Status: Excess

Reasons: Extensive deterioration

Unsuitable Properties

Building

Kansas

Bldg. 29442

Admin. Area

Perry KS 66073

Landholding Agency: COE

Property Number: 31200610002

Status: Excess

Reasons: Extensive deterioration

Bldgs. 29475, 29476

Thompsonville Park

Perry KS 66073

Landholding Agency: COE

Property Number: 31200610003

Status: Excess

Reasons: Extensive deterioration

Bldg. 39661

Old Town Park

Perry KS 66073

Landholding Agency: COE

Property Number: 31200610004

Status: Excess

Reasons: Extensive deterioration

Bldg. 29455

Rock Creek Park

Perry KS 66073

Landholding Agency: COE

Property Number: 31200610005

Status: Excess

Reasons: Extensive deterioration

Unsuitable Properties

Building

Kansas

Bldg. 29415

Longview Park

Perry KS 66073

Landholding Agency: COE

Property Number: 31200610006

Status: Excess

Reasons: Extensive deterioration

Bldg. 29464

Slough Creek Park

Perry KS 66073

Landholding Agency: COE

Property Number: 31200610007

Status: Excess

Reasons: Extensive deterioration

Bldgs. 35015, 35011

Minooka Park

Sylvan Grove KS 67481

Landholding Agency: COE

Property Number: 31200620021

Status: Excess

Reasons: Extensive deterioration

Bldgs.

Canning Creek

Council Grove Co: Morris KS 66846

Landholding Agency: COE

Property Number: 31200620022

Status: Excess

Reasons: Extensive deterioration

Unsuitable Properties

Building

Kansas

4 Bldgs.

East Rolling Hills Park

Junction City KS 66441

Landholding Agency: COE

Property Number: 31200630009

Status: Unutilized

Reasons: Extensive deterioration

Storage Bldg.

Perry Wildlife Area

Perry KS 66073

Landholding Agency: COE

Property Number: 31200640005

Status: Excess

Reasons: Extensive deterioration

Water Treatment Plant

Old Town Area

Perry KS 66073

Landholding Agency: COE

Property Number: 31200640006

Status: Excess

Reasons: Extensive deterioration

Water Treatment Plant

Sunset Ridge Area

Perry KS 66073

Landholding Agency: COE

Property Number: 31200640007

Status: Excess

Reasons: Extensive deterioration

Unsuitable Properties

Building

Kansas

Water Treatment Plant

Perry Area

Perry KS 66073

Landholding Agency: COE

Property Number: 31200640008

Status: Excess

Reasons: Extensive deterioration

Water Treatment Plant

Longview Park Area

Perry KS 66073

Landholding Agency: COE

Property Number: 31200640009

Status: Excess

Reasons: Extensive deterioration

Shower

Longview Park Area

Perry KS 66073

Landholding Agency: COE

Property Number: 31200640010

Status: Excess

Reasons: Extensive deterioration

Shower

Slough Creek Park Area

Perry KS 66073

Landholding Agency: COE

Property Number: 31200640011

Status: Excess

Reasons: Extensive deterioration

Unsuitable Properties

Building

Kansas

Shower

Thompsonville Area

Perry KS 66073

Landholding Agency: COE

Property Number: 31200640012

Status: Excess

Reasons: Extensive deterioration

Bldgs. 28370, 28373, 28298

Melvern Lake

Melvern Co: Osage KS 66510

Landholding Agency: COE

Property Number: 31200710006

Status: Excess

Reasons: Extensive deterioration

Bldg. 29773

Melvern Lake

Melvern Co: Osage KS 66510

Landholding Agency: COE

Property Number: 31200710007

Status: Excess

Reasons: Extensive deterioration

Bldgs. 29785, 29786, 29788

Melvern Lake

Melvern Co: Osage KS 66510

Landholding Agency: COE

Property Number: 31200710008

Status: Excess

Reasons: Extensive deterioration

Unsuitable Properties

Building

Kansas

Bldg. 39070

Melvern Lake

Melvern Co: Osage KS 66510

Landholding Agency: COE

Property Number: 31200710009

Status: Excess

Reasons: Extensive deterioration

Bldg.

South Outlet Park Area

Lawrence KS

Landholding Agency: COE

Property Number: 31200710010

Status: Excess

Reasons: Extensive deterioration

2 Bldgs.

School Creek Boat Ramp

Junction City KS

Landholding Agency: COE

Property Number: 31200720001

Status: Excess

Reasons: Extensive deterioration

2 Bldgs.

School Creek A Loop

Junction City KS 66441

Landholding Agency: COE

Property Number: 31200720002

Status: Excess

Reasons: Extensive deterioration

Unsuitable Properties

Building

Kansas

Bldg. 11001

West Dam Access Area

Sylvan Grove KS 67481

Landholding Agency: COE

Property Number: 31200730001

Status: Excess

Reasons: Extensive deterioration

8 Bldgs.

Melvern Lake Project

Osage KS 66510

Landholding Agency: COE

Property Number: 31200730002

Status: Excess

Directions: 28370, 28373, 28398, 29773, 29785, 29786, 29788, 39070

Reasons: Extensive deterioration

Bldg. 39663

Perry Boat Ramp Area

Perry KS 66073

Landholding Agency: COE

Property Number: 31200730003

Status: Excess

Reasons: Extensive deterioration

Unsuitable Properties

Building

Kansas

5 Bldgs.

Slough Creek Area

Perry KS 66073

Landholding Agency: COE

Property Number: 31200730004

Status: Excess

Directions: 39671, 39672, 39673, 39674, 39675

Reasons: Extensive deterioration

7 Bldgs.

Slough Creek Area

Perry KS 66073

Landholding Agency: COE

Property Number: 31200730005

Status: Excess

Directions: 29462, 29463, 29465, 29466, 29467, 29472, 29473

Reasons: Extensive deterioration

Bldgs. 29452, 29453, 29454

Rock Creek Area

Perry KS 66073

Landholding Agency: COE

Property Number: 31200730006

Status: Unutilized

Reasons: Extensive deterioration

Unsuitable Properties

Building

Kansas

Bldgs. 29416, 29417

Longview Park Area

Perry KS 66073

Landholding Agency: COE

Property Number: 31200730007

Status: Excess

Reasons: Extensive deterioration

Bldgs. 29421, 29422, 29423

Old Military Trail

Perry KS 66073

Landholding Agency: COE

Property Number: 31200730008

Status: Excess

Reasons: Extensive deterioration

Bldgs. 29428, 29431

Old Town Area

Perry KS 66073

Landholding Agency: COE

Property Number: 31200730009

Status: Excess

Reasons: Extensive deterioration

Bldgs. 29434, 29435

Outlet Area

Perry KS 66073

Landholding Agency: COE

Property Number: 31200730010

Status: Excess

Reasons: Extensive deterioration

Unsuitable Properties

Building

Kansas

Bldgs. 29477, 29478

Thompsonville Area

Perry KS 66073

Landholding Agency: COE

Property Number: 31200730011

Status: Excess

Reasons: Extensive deterioration

Bldgs. 29387, 28390

Melvern Lake Project

Osage KS 66510

Landholding Agency: COE

Property Number: 31200730021

Status: Excess

Reasons: Extensive deterioration

Vault Toilet

Farnum Creek Boat Ramp

Junction City KS 66441

Landholding Agency: COE

Property Number: 31200740002

Status: Excess

Reasons: Extensive deterioration

Vault Toilet

North Overlook Park

Junction City KS 66441

Landholding Agency: COE

Property Number: 31200740003

Status: Excess

Reasons: Extensive deterioration

Unsuitable Properties

Building

Kansas

Vault Toilet

Curtis Creek Boat Ramp

Junction City KS 66441

Landholding Agency: COE

Property Number: 31200740004

Status: Excess

Reasons: Extensive deterioration

House

Pomona Lake Project

Vassar KS 66453

Landholding Agency: COE

Property Number: 31200740005

Status: Excess

Reasons: Extensive deterioration

Bldg. 25034

Lucas Park

Sylvan Grove KS 67481

Landholding Agency: COE

Property Number: 31200740006

Status: Excess

Reasons: Extensive deterioration

2 Vault Toilets

Tuttle Creek

Manhattan KS 66502

Landholding Agency: COE

Property Number: 31200740007

Status: Excess

Reasons: Extensive deterioration

Unsuitable Properties

Building

Kansas

Fee Booth #35006

Minooka Park

Sylvan Grove KS 67481

Landholding Agency: COE

Property Number: 31200820007

Status: Excess

Reasons: Extensive deterioration

Kentucky

Spring House

Kentucky River Lock and Dam No. 1

Highway 320

Carrollton Co: Carroll KY 41008

Landholding Agency: COE

Property Number: 21199040416

Status: Unutilized

Reasons: Other—Spring House

6-Room Dwelling

Green River Lock and Dam No. 3

Rochester Co: Butler KY 42273

Landholding Agency: COE

Property Number: 31199120010

Status: Unutilized

Directions: Off State Hwy 369, which runs off of Western Ky. Parkway

Reasons: Floodway

Unsuitable Properties

Building

Kentucky

2-Car Garage

Green River Lock and Dam No. 3

Rochester Co: Butler KY 42273

Landholding Agency: COE

Property Number: 31199120011

Status: Unutilized

Directions: Off State Hwy 369, which runs off of Western Ky. Parkway

Reasons: Floodway

Office and Warehouse

Green River Lock and Dam No. 3

Rochester Co: Butler KY 42273

Landholding Agency: COE

Property Number: 31199120012

Status: Unutilized

Directions: Off State Hwy 369, which runs off of Western Ky. Parkway

Reasons: Floodway

2 Pit Toilets

Green River Lock and Dam No. 3

Rochester Co: Butler KY 42273

Landholding Agency: COE

Property Number: 31199120013

Status: Unutilized

Reasons: Floodway

Unsuitable Properties

Building

Kentucky

Tract 1379

Barkley Lake

Eddyville Co: Lyon KY 42038

Landholding Agency: COE

Property Number: 31200420001

Status: Unutilized

Reasons: Other—landlocked

Tract 4300

Barkley Lake

Cadiz Co: Trigg KY 42211

Landholding Agency: COE

Property Number: 31200420002

Status: Unutilized

Reasons: Floodway

Tracts 317, 318, 319

Barkley Lake

Grand Rivers Co: Lyon KY 42045

Landholding Agency: COE

Property Number: 31200420003

Status: Unutilized

Reasons: Floodway

Steel Structure

Mcalpine Locks

Louisville KY 40212

Landholding Agency: COE

Property Number: 31200440006

Status: Excess

Reasons: Within 2000 ft. of flammable or explosive material—Floodway

Unsuitable Properties

Building

Kentucky

Comfort Station

Mcalpine Locks

Louisville KY 40212

Landholding Agency: COE

Property Number: 31200440007

Status: Excess

Reasons: Floodway—Within 2000 ft. of flammable or explosive material

Shelter

Mcalpine Locks

Louisville KY 40212

Landholding Agency: COE

Property Number: 31200440008

Status: Excess

Reasons: Within 2000 ft. of flammable or explosive material—Floodway

Parking Lot

Mcalpine Locks

Louisville KY 40212

Landholding Agency: COE

Property Number: 31200440009

Status: Excess

Reasons: Floodway—Within 2000 ft. of flammable or explosive material

Unsuitable Properties

Building

Kentucky

Loading Docks

Nolin Lake

Bee Spring KY 42007

Landholding Agency: COE

Property Number: 31200540006

Status: Unutilized

Reasons: Extensive deterioration

Sewage Treatment Plant

Smith Ridge Rec Area

Campbellsville KY 42718

Landholding Agency: COE

Property Number: 31200740008

Status: Excess

Reasons: Extensive deterioration

Massachusetts

Lee House

Knightville Dam Project

Huntington MA

Landholding Agency: COE

Property Number: 31200720003

Status: Unutilized

Reasons: Extensive deterioration

Westview Street Wells

Lexington MA 02173

Landholding Agency: VA

Property Number: 97199920001

Status: Unutilized

Reasons: Extensive deterioration

Unsuitable Properties

Building

Mississippi

Bldg. CB-70

Columbus Lake

Columbus MS 39701

Landholding Agency: COE

Property Number: 31200820009

Status: Unutilized

Reasons: Extensive deterioration

Aircraft Hangar

State Hwy 61

Vicksburg MS

Landholding Agency: GSA

Property Number: 54200830019

Status: Excess

GSA Number: 4-D-MS-0565AA

Reasons: Within airport runway clear zone

Bldg. 6, Boiler Plant

Biloxi VA Medical Center

Gulfport Co: Harrison MS 39531

Landholding Agency: VA

Property Number: 97199410001

Status: Unutilized

Reasons: Floodway

Bldg. 67

Biloxi VA Medical Center

Gulfport Co: Harrison MS 39531

Landholding Agency: VA

Property Number: 97199410008

Status: Unutilized

Reasons: Extensive deterioration

Unsuitable Properties

Building

Mississippi

Bldg. 68

Biloxi VA Medical Center

Gulfport Co: Harrison MS 39531

Landholding Agency: VA

Property Number: 97199410009

Status: Unutilized

Reasons: Extensive deterioration

Missouri

Rec Office

Harry S. Truman Dam

Osceola Co: St. Clair MO 64776

Landholding Agency: COE

Property Number: 31200110001

Status: Unutilized

Reasons: Extensive deterioration

Privy/Nemo Park

Pomme de Terre Lake

Hermitage MO 65668

Landholding Agency: COE

Property Number: 31200120001

Status: Excess

Reasons: Extensive deterioration

Privy No. 1/Bolivar Park

Pomme de Terre Lake

Hermitage MO 65668

Landholding Agency: COE

Property Number: 31200120002

Status: Excess

Reasons: Extensive deterioration

Unsuitable Properties

Building

Missouri

Privy No. 2/Bolivar Park

Pomme de Terre Lake

Hermitage MO 65668

Landholding Agency: COE

Property Number: 31200120003

Status: Excess

Reasons: Extensive deterioration

#07004, 60006, 60007

Crabtree Cove/Stockton Area

Stockton MO 65785

Landholding Agency: COE

Property Number: 31200220007

Status: Excess

Reasons: Extensive deterioration

Bldg.

Old Mill Park Area

Stockton MO 65785

Landholding Agency: COE

Property Number: 31200310007

Status: Excess

Reasons: Extensive deterioration

Stockton Lake Proj. Ofc.

Stockton Co: Cedar MO 65785

Landholding Agency: COE

Property Number: 31200330004

Status: Unutilized

Reasons: Extensive deterioration

Unsuitable Properties

Building

Missouri

House

Tract 1105

Thurnau Mitigation Site

Craig Co: Holt MO 64437

Landholding Agency: COE

Property Number: 31200420005

Status: Unutilized

Reasons: Extensive deterioration

30x36 Barn

Tract 1105

Thurnau Mitigation Site

Craig Co: Holt MO 64437

Landholding Agency: COE

Property Number: 31200420006

Status: Unutilized

Reasons: Extensive deterioration

30x26 Barn

Tract 1105

Thurnau Mitigation Site

Craig Co: Holt MO 64437

Landholding Agency: COE

Property Number: 31200420007

Status: Unutilized

Reasons: Extensive deterioration

Unsuitable Properties

Building

Missouri

30x10 Shed

Tract 1105

Thurnau Mitigation Site

Craig Co: Holt MO 64437

Landholding Agency: COE

Property Number: 31200420008

Status: Unutilized

Reasons: Extensive deterioration

30x26 Shed

Tract 1105

Thurnau Mitigation Site

Craig Co: Holt MO 64437

Landholding Agency: COE

Property Number: 31200420009

Status: Unutilized

Reasons: Extensive deterioration

9x9 Shed

Tract 1105

Thurnau Mitigation Site

Craig Co: Holt MO 64437

Landholding Agency: COE

Property Number: 31200420010

Status: Unutilized

Reasons: Extensive deterioration

Unsuitable Properties

Building

Missouri

Tract 1111

Thurnau Mitigation Site

Craig Co: Holt MO 64437

Landholding Agency: COE

Property Number: 31200420011

Status: Excess

Reasons: Extensive deterioration

Shower

Pomme de Terre Lake

Hermitage Co: Polk MO 65668

Landholding Agency: COE

Property Number: 31200420012

Status: Unutilized

Reasons: Extensive deterioration

11 Bldgs.

Warsaw MO 65355

Landholding Agency: COE

Property Number: 31200430013

Status: Excess

Directions: Fairfield, Tally Bend, Cooper Creek, Shawnee Bend

Reasons: Extensive deterioration

2 Storage Bldgs.

District Service Base

St. Louis MO

Landholding Agency: COE

Property Number: 31200430014

Status: Excess

Reasons: Extensive deterioration.

Unsuitable Properties

Building

Missouri

Privy

Pomme de Terre Lake

Wheatland Co: Hickory MO

Landholding Agency: COE

Property Number: 31200440010

Status: Underutilized

Reasons: Floodway.

Vault Toilet

Ruark Bluff

Stockton MO

Landholding Agency: COE

Property Number: 31200440011

Status: Excess

Reasons: Extensive deterioration.

Comfort Station

Overlook Area

Stockton MO

Landholding Agency: COE

Property Number: 31200440012

Status: Excess

Reasons: Extensive deterioration.

Maintenance Building

Missouri River Area

Napoleon Co: Lafayette MO 64074

Landholding Agency: COE

Property Number: 31200510007

Status: Excess

Reasons: Floodway.

Unsuitable Properties

Building

Missouri

Bldg. 34001

Orleans Trail Park

Stockton MO 65785

Landholding Agency: COE

Property Number: 31200510008

Status: Excess

Reasons: Extensive deterioration.

Bldgs. 34016, 34017

Orleans Trail Park

Stockton MO 65785

Landholding Agency: COE

Property Number: 31200510009

Status: Excess

Reasons: Extensive deterioration.

Bldg.

Pomme de Terre Lake

Hermitage MO 65668

Landholding Agency: COE

Property Number: 31200610008

Status: Unutilized

Reasons: Extensive deterioration.

Bldgs. 43841, 43919

Clearwater Project

Piedmont MO 63957

Landholding Agency: COE

Property Number: 31200630010

Status: Unutilized

Reasons: Extensive deterioration.

Unsuitable Properties

Building

Missouri

Dwelling

Harry S. Truman Project

Roscoe MO

Landholding Agency: COE

Property Number: 31200640013

Status: Unutilized

Reasons: Extensive deterioration.

Bldg. 50005

Ruark Bluff East

Stockton MO 65785

Landholding Agency: COE

Property Number: 31200710011

Status: Excess

Reasons: Extensive deterioration.

Bldg. 07002

Crabtree Cove Park

Stockton MO 65785

Landholding Agency: COE

Property Number: 31200710012

Status: Excess

Reasons: Extensive deterioration.

Comfort Station

Riverlands Way Access

West Alton MO 63386

Landholding Agency: COE

Property Number: 31200710013

Status: Excess

Reasons: Extensive deterioration.

Unsuitable Properties

Building

Missouri

Bldg. #55001

Cooper Creek

Warsaw MO 65355

Landholding Agency: COE

Property Number: 31200720005

Status: Excess

Reasons: Extensive deterioration.

Bldgs. 40006, 40007

Pomme de Terre Lake

Pittsburg MO 65724

Landholding Agency: COE

Property Number: 31200730012

Status: Excess

Reasons: Extensive deterioration.

3 Facilities

Wappapello Lake Project

Wayne MO 63966

Landholding Agency: COE

Property Number: 31200730013

Status: Excess

Reasons: Extensive deterioration.

Bldgs. 05004, 05008

Cedar Ridge Park

Stockton MO 65785

Landholding Agency: COE

Property Number: 31200740009

Status: Excess

Reasons: Extensive deterioration.

Unsuitable Properties

Building

Missouri

Bldg. 11002

Greenfield Access

Stockton MO 65785

Landholding Agency: COE

Property Number: 31200740010

Status: Excess

Reasons: Extensive deterioration.

Bldgs. 14008, 14009, 14010

Hawker Point Park

Stockton MO 65785

Landholding Agency: COE

Property Number: 31200740011

Status: Excess

Reasons: Extensive deterioration.

Bldg. 34006

Orleans Trail Park

Stockton MO 65785

Landholding Agency: COE

Property Number: 31200740012

Status: Excess

Reasons: Extensive deterioration.

Bldg. ES801-8319

Wappapello Lake Project

Wayne MO 63966

Landholding Agency: COE

Property Number: 31200740013

Status: Excess

Reasons: Extensive deterioration.

Unsuitable Properties

Building

Missouri

Bldg. 14004

Hawker Point Park

Stockton MO 65785

Landholding Agency: COE

Property Number: 31200820008

Status: Excess

Reasons: Extensive deterioration.

Picnic Shelter

ES801-8357, 009R31

Wappapello MO 63966

Landholding Agency: COE

Property Number: 31200830001

Status: Excess

Reasons: Extensive deterioration.

Picnic Shelter

ES801-8358, 009R32

Wappapello MO 63966

Landholding Agency: COE

Property Number: 31200830002

Status: Excess

Reasons: Extensive deterioration.

Bldg. 3

VA Medical Center

Jefferson Barracks Division

St. Louis MO 63125

Landholding Agency: VA

Property Number: 97200340001

Status: Underutilized

Reasons: Secured Area.

Unsuitable Properties

Building

Missouri

Bldg. 4

VA Medical Center

Jefferson Barracks Division

St. Louis MO

Landholding Agency: VA

Property Number: 97200340002

Status: Underutilized

Reasons: Secured Area.

Bldg. 27

VA Medical Center

Jefferson Barracks Division

St. Louis MO 63125

Landholding Agency: VA

Property Number: 97200340003

Status: Underutilized

Reasons: Secured Area

Bldg. 28

VA Medical Center

Jefferson Barracks Division

St. Louis MO 63125

Landholding Agency: VA

Property Number: 97200340004

Status: Underutilized

Reasons: Secured Area

Unsuitable Properties

Building

Missouri

Bldg. 29

VA Medical Center

Jefferson Barracks Division

St. Louis MO 63125

Landholding Agency: VA

Property Number: 97200340005

Status: Underutilized

Reasons: Secured Area

Bldg. 50

VA Medical Center

Jefferson Barracks Division

St. Louis MO 63125

Landholding Agency: VA

Property Number: 97200340006

Status: Underutilized

Reasons: Secured Area

Nebraska

Vault Toilets

Harlan County Project

Republican NE 68971

Landholding Agency: COE

Property Number: 31200210006

Status: Unutilized

Reasons: Extensive deterioration

Unsuitable Properties

Building

Nebraska

Patterson Treatment Plant

Harlan County Project

Republican NE 68971

Landholding Agency: COE

Property Number: 31200210007

Status: Unutilized

Reasons: Extensive deterioration

#30004

Harlan County Project

Republican Co: Harlan NE 68971

Landholding Agency: COE

Property Number: 31200220008

Status: Unutilized

Reasons: Extensive deterioration

#3005, 3006

Harlan County Project

Republican Co: Harlan NE 68971

Landholding Agency: COE

Property Number: 31200220009

Status: Unutilized

Reasons: Extensive deterioration

Bldgs. 70001, 70002

South Outlet Park

Republican City NE

Landholding Agency: COE

Property Number: 31200510010

Status: Excess

Reasons: Extensive deterioration

Unsuitable Properties

Building

Nebraska

Bldgs. 40002, 40003, 40006

Harlan County Lake

Republican City NE 68971

Landholding Agency: COE

Property Number: 31200610009

Status: Excess

Reasons: Extensive deterioration

Bldg. 40020

Harlan County Lake

Republican City NE 68971

Landholding Agency: COE

Property Number: 31200610010

Status: Excess

Reasons: Extensive deterioration

4 Bldgs.

43004, 43007, 43008, 43009

Republican City NE 68971

Landholding Agency: COE

Property Number: 31200610011

Status: Excess

Reasons: Extensive deterioration

Unsuitable Properties

Building

Nebraska

6 Bldgs.

Harlan County Lake

Republican City NE 68971

Landholding Agency: COE

Property Number: 31200610012

Status: Excess

Directions: 50003, 50004, 50005, 50006, 50007, 50008

Reasons: Extensive deterioration

New York

Warehouse

Whitney Lake Project

Whitney Point Co: Broome NY 13862-0706

Landholding Agency: COE

Property Number: 31199630007

Status: Unutilized

Reasons: Extensive deterioration

North Carolina

Preston Clark USARC

1301 N. Memorial Dr.

Greenville Co: Pitt NC 27834

Landholding Agency: COE

Property Number: 31200620032

Status: Unutilized

Reasons: Extensive deterioration

Unsuitable Properties

Building

North Carolina

Bldg. MC-A01

Morehead City NC

Landholding Agency: COE

Property Number: 31200740014

Status: Excess

Reasons: Extensive deterioration

Bldg. 9

VA Medical Center

1100 Tunnel Road

Asheville Co: Buncombe NC 28805

Landholding Agency: VA

Property Number: 97199010008

Status: Unutilized

Reasons: Extensive deterioration

Ohio

NIKE Site Cd-46

Felicity OH

Landholding Agency: COE

Property Number: 31200740015

Status: Excess

Reasons: Extensive deterioration

Installation 39875

Hayes Reserve Center

Fremont OH 43420

Landholding Agency: COE

Property Number: 31200740016

Status: Excess

Reasons: Extensive deterioration

Unsuitable Properties

Building

Ohio

Bldg. 105

VA Medical Center

Dayton Co: Montgomery OH 45428

Landholding Agency: VA

Property Number: 97199920005

Status: Unutilized

Reasons: Extensive deterioration

Oklahoma

Comfort Station

LeFlore Landing PUA

Sallisaw Co: LeFlore OK 74955-9445

Landholding Agency: COE

Property Number: 31200240008

Status: Excess

Reasons: Extensive deterioration

Comfort Station

Braden Bend PUA

Sallisaw Co: LeFlore OK 74955-9445

Landholding Agency: COE

Property Number: 31200240009

Status: Excess

Reasons: Extensive deterioration

Water Treatment Plant

Salt Creek Cove

Sawyer Co: Choctaw OK 74756-0099

Landholding Agency: COE

Property Number: 31200240010

Status: Excess

Reasons: Extensive deterioration

Unsuitable Properties

Building

Oklahoma

Water Treatment Plant

Wilson Point

Sawyer Co: Choctaw OK 74756-0099

Landholding Agency: COE

Property Number: 31200240011

Status: Excess

Reasons: Extensive deterioration

2 Comfort Stations

Landing PUA/Juniper Point PUA

Stigler Co: McIntosh OK 74462-9440

Landholding Agency: COE

Property Number: 31200240012

Status: Excess

Reasons: Extensive deterioration

Filter Plant/Pumphouse

South PUA

Stigler Co: McIntosh OK 74462-9440

Landholding Agency: COE

Property Number: 31200240013

Status: Excess

Reasons: Extensive deterioration

Filter Plant/Pumphouse

North PUA

Stigler Co: McIntosh OK 74462-9440

Landholding Agency: COE

Property Number: 31200240014

Status: Excess

Reasons: Extensive deterioration

Unsuitable Properties

Building

Oklahoma

Filter Plant/Pumphouse

Juniper Point PUA

Stigler Co: McIntosh OK 74462-9440

Landholding Agency: COE

Property Number: 31200240015

Status: Excess

Reasons: Extensive deterioration

Comfort Station

Juniper Point PUA

Stigler Co: McIntosh OK 74462-9440

Landholding Agency: COE

Property Number: 31200240016

Status: Excess

Reasons: Extensive deterioration

Comfort Station

Brooken Cove PUA

Stigler Co: McIntosh OK 74462-9440

Landholding Agency: COE

Property Number: 31200240017

Status: Excess

Reasons: Extensive deterioration

2 Bldgs.

Outlet Channel/Walker Creek

Waurika OK 73573-0029

Landholding Agency: COE

Property Number: 31200340013

Status: Excess

Reasons: Extensive deterioration

Unsuitable Properties

Building

Oklahoma

2 Bldgs.

Damsite South

Stigler OK 74462-9440

Landholding Agency: COE

Property Number: 31200340014

Status: Excess

Reasons: Extensive deterioration

19 Bldgs.

Kaw Lake

Ponca City OK 74601-9962

Landholding Agency: COE

Property Number: 31200340015

Status: Excess

Reasons: Extensive deterioration

30 Bldgs.

Keystone Lake

Sand Springs OK 74063-9338

Landholding Agency: COE

Property Number: 31200340016

Status: Excess

Reasons: Extensive deterioration

13 Bldgs.

Oologah Lake

Oologah OK 74053-0700

Landholding Agency: COE

Property Number: 31200340017

Status: Excess

Reasons: Extensive deterioration

Unsuitable Properties

Building

Oklahoma

14 Bldgs.

Pine Creek Lake

Valliant OK 74764-9801

Landholding Agency: COE

Property Number: 31200340018

Status: Excess

Reasons: Extensive deterioration

6 Bldgs.

Sardis Lake

Clayton OK 74536-9729

Landholding Agency: COE

Property Number: 31200340019

Status: Excess

Reasons: Extensive deterioration

22 Bldgs.

Skiatook Lake

Skiatook OK 74070-9803

Landholding Agency: COE

Property Number: 31200340020

Status: Excess

Reasons: Extensive deterioration

40 Bldgs.

Eufaula Lake

Stigler OK 74462-5135

Landholding Agency: COE

Property Number: 31200340021

Status: Excess

Reasons: Extensive deterioration

Unsuitable Properties

Building

Oklahoma

2 Bldgs.

Holiday Cove

Stigler OK 74462-5135

Landholding Agency: COE

Property Number: 31200340022

Status: Excess

Reasons: Extensive deterioration

18 Bldgs.

Fort Gibson

Ft. Gibson Co: Wagoner OK 74434-0370

Landholding Agency: COE

Property Number: 31200340023

Status: Excess

Reasons: Extensive deterioration

2 Bldgs.

Fort Supply

Ft. Supply Co: Woodward OK 73841-0248

Landholding Agency: COE

Property Number: 31200340024

Status: Excess

Reasons: Extensive deterioration

Game Bird House

Fort Supply Lake

Ft. Supply Co: Woodward OK 73841-0248

Landholding Agency: COE

Property Number: 31200340025

Status: Excess

Reasons: Extensive deterioration

Unsuitable Properties

Building

Oklahoma

11 Bldgs.

Hugo Lake

Sawyer OK 74756-0099

Landholding Agency: COE

Property Number: 31200340026

Status: Excess

Reasons: Extensive deterioration

5 Bldgs.

Birch Cove/Twin Cove

Skiatook OK 74070-9803

Landholding Agency: COE

Property Number: 31200340027

Status: Excess

Reasons: Extensive deterioration

2 Bldgs.

Fairview Group Camp

Canton OK 73724-0069

Landholding Agency: COE

Property Number: 31200340028

Status: Excess

Reasons: Extensive deterioration

2 Bldgs.

Chouteau Bluff

Gore Co: Wagoner OK 74935-9404

Landholding Agency: COE

Property Number: 31200340029

Status: Excess

Reasons: Extensive deterioration

Unsuitable Properties

Building

Oklahoma

2 Bldgs.

Newt Graham L

Gore OK 74935-9404

Landholding Agency: COE

Property Number: 31200340030

Status: Excess

Reasons: Extensive deterioration

2 Bldgs.

Damsite/Fisherman's Landing

Sallisaw OK 74955-9445

Landholding Agency: COE

Property Number: 31200340031

Status: Excess

Reasons: Extensive deterioration

10 Bldgs.

Webbers Falls Lake

Gore OK 74435-5541

Landholding Agency: COE

Property Number: 31200340032

Status: Excess

Reasons: Extensive deterioration

Bldg.

Lower Storage Yard

Skiatook Co: Osage OK 74070

Landholding Agency: COE

Property Number: 31200530007

Status: Excess

Reasons: Extensive deterioration

Unsuitable Properties

Building

Oklahoma

3 Bldgs.

Birch Cove PUA

Skiatook Co: Osage OK 74070

Landholding Agency: COE

Property Number: 31200530008

Status: Excess

Reasons: Extensive deterioration

Bldg.

Canadian Public Use Area

Canton Co: Blaine OK 73724

Landholding Agency: COE

Property Number: 31200530009

Status: Excess

Reasons: Extensive deterioration

3 Bldgs.

Porum Landing PUA

Stigler Co: McIntosh OK 74462

Landholding Agency: COE

Property Number: 31200530010

Status: Excess

Reasons: Extensive deterioration

2 Bldgs.

Bluff/Afton Landing

Ft. Gibson Co: Wagoner OK 74434

Landholding Agency: COE

Property Number: 31200530012

Status: Excess

Reasons: Extensive deterioration

Unsuitable Properties

Building

Oklahoma

Bldg.

Lake Office

Ft. Supply Co: Woodward OK 73841

Landholding Agency: COE

Property Number: 31200530013

Status: Excess

Reasons: Extensive deterioration

4 Bldgs.

Overlook PUA

Ft. Supply Co: Texas OK 73841

Landholding Agency: COE

Property Number: 31200530014

Status: Excess

Reasons: Extensive deterioration

Bldg.

Hugo Lake

Sawyer Co: Chocktaw OK 74756

Landholding Agency: COE

Property Number: 31200530015

Status: Excess

Reasons: Extensive deterioration

2 Bldgs.

Sarge Creek PUA

Ponca City Co: Kay OK 74601

Landholding Agency: COE

Property Number: 31200530016

Status: Excess

Reasons: Extensive deterioration

Unsuitable Properties

Building

Oklahoma

5 Bldgs.

Hawthorne Bluff

Oologah Co: Rogers OK 74053

Landholding Agency: COE

Property Number: 31200530017

Status: Excess

Reasons: Extensive deterioration

12 Bldgs.

Trout Stream PUAs

Gore Co: Sequoyah OK 74435

Landholding Agency: COE

Property Number: 31200530018

Status: Excess

Reasons: Extensive deterioration

14 Bldgs.

Chicken Creek PUAs

Gore Co: Cherokee OK 74435

Landholding Agency: COE

Property Number: 31200530019

Status: Excess

Reasons: Extensive deterioration

4 Bldgs.

Snake Creek Area

Gore Co: Sequoyah OK 74435

Landholding Agency: COE

Property Number: 31200530020

Status: Excess

Reasons: Extensive deterioration

Unsuitable Properties

Building

Oklahoma

3 Bldgs.

Brewer's Bend

Gore Co: Muskogee OK 74435

Landholding Agency: COE

Property Number: 31200530021

Status: Excess

Reasons: Extensive deterioration

Facility

Hulah Lake

Copan Co: Osage OK 74022

Landholding Agency: COE

Property Number: 31200620025

Status: Excess

Reasons: Extensive deterioration

Bldg.

Webbers Falls

Muskogee OK 74435

Landholding Agency: COE

Property Number: 31200620026

Status: Excess

Reasons: Extensive deterioration

24 Bldgs.

Hulah Lake

Copan OK

Landholding Agency: COE

Property Number: 31200630011

Status: Unutilized

Reasons: Extensive deterioration

Unsuitable Properties

Building

Oklahoma

Bldgs. 44760, 44707

Canton Lake

Canton OK 73724

Landholding Agency: COE

Property Number: 31200630012

Status: Unutilized

Reasons: Extensive deterioration

Bldg.

Skiatook Lake

Skiatook OK 74070

Landholding Agency: COE

Property Number: 31200630013

Status: Unutilized

Reasons: Extensive deterioration

Bldgs. 43263, 42364

Oologah Lake

Oologah OK 74053

Landholding Agency: COE

Property Number: 31200630015

Status: Unutilized

Reasons: Extensive deterioration

Bldg.

Webbers Falls Lake

Webbers Falls OK

Landholding Agency: COE

Property Number: 31200630016

Status: Unutilized

Reasons: Extensive deterioration

Unsuitable Properties

Building

Oklahoma

Bldgs. 43523, 43820

Hugo Lake

Sawyer OK 74756

Landholding Agency: COE

Property Number: 31200630017

Status: Unutilized

Reasons: Extensive deterioration

Bldg.

Newt Graham Lock 18

Inola OK

Landholding Agency: COE

Property Number: 31200640014

Status: Unutilized

Reasons: Extensive deterioration

4 Bldgs.

Gore OK 74435

Landholding Agency: COE

Property Number: 31200640016

Status: Unutilized

Directions: Afton Landing or Bluff Landing

Reasons: Extensive deterioration

Pinecr-58321

Pine Creek Lake

Valiant OK

Landholding Agency: COE

Property Number: 31200710015

Status: Unutilized

Reasons: Extensive deterioration

Unsuitable Properties

Building

Oklahoma

KAW-58649

Garrett's Landing

Kaw City OK

Landholding Agency: COE

Property Number: 31200710016

Status: Unutilized

Reasons: Extensive deterioration

Bldg.

Sizemore Landing

Gore OK 74435

Landholding Agency: COE

Property Number: 31200720007

Status: Unutilized

Reasons: Extensive deterioration

Bldg.

Taylor Ferry

Fort Gibson OK 74434

Landholding Agency: COE

Property Number: 31200720008

Status: Unutilized

Reasons: Extensive deterioration

Bldgs. 42670, 42634

Tenkiller Lake

Gore OK 74435

Landholding Agency: COE

Property Number: 31200730014

Status: Unutilized

Reasons: Extensive deterioration

Unsuitable Properties

Building

Oklahoma

Bldg. 41946

Webbers Falls Lake

Webbers Lake OK

Landholding Agency: COE

Property Number: 31200730015

Status: Unutilized

Reasons: Extensive deterioration

Bldgs. 44760, 44707

Canton Lake

Canton OK

Landholding Agency: COE

Property Number: 31200730016

Status: Unutilized

Reasons: Extensive deterioration

6 Bldgs.

Hugo Lake

Sawyer OK

Landholding Agency: COE

Property Number: 31200730017

Status: Unutilized

Directions: 43803, 43802, 43827, 43760, 43764, 43763

Reasons: Extensive deterioration

Unsuitable Properties

Building

Oklahoma

Gatehouse

Porum Landing

Stigler OK 75562

Landholding Agency: COE

Property Number: 31200740017

Status: Unutilized

Reasons: Extensive deterioration

Bldgs. 42008, 55088

Webbers Falls Lake

Webbers Falls OK

Landholding Agency: COE

Property Number: 31200740019

Status: Unutilized

Reasons: Extensive deterioration

4 Bldgs.

Optima Lake

Texas OK

Landholding Agency: COE

Property Number: 31200820010

Status: Unutilized

Directions: 43119, 43192, 43193, 43262

Reasons: Extensive deterioration

Unsuitable Properties

Building

Oregon

2 Floating Docks

Rogue River

Gold Beach Co: Curry OR 97444

Landholding Agency: COE

Property Number: 31200430015

Status: Excess

Reasons: Floodway

2 Trailers

John Day Project

#1 West Marine Drive

Boardman Co: Morrow OR 97818

Landholding Agency: COE

Property Number: 31200510012

Status: Unutilized

Reasons: Extensive deterioration

5 Bldgs.

Keeney Camp

Malhear National Forest

John Day Co: Sherman OR 97845

Landholding Agency: GSA

Property Number: 54200820008

Status: Surplus

GSA Number: 9-A-OR-767

Reasons: Extensive deterioration

Unsuitable Properties

Building

Pennsylvania

Bldgs. TIO 12328, 12333

Tionesta PA 16353

Landholding Agency: COE

Property Number: 31200820011

Status: Unutilized

Reasons: Extensive deterioration

South Dakota

Mobile Home

Tract L-1295

Oahe Dam

Potter SD 00000

Landholding Agency: COE

Property Number: 31200030001

Status: Excess

Reasons: Extensive deterioration

Tennessee

Bldg. 204

Cordell Hull Lake and Dam Project

Defeated Creek Recreation Area

Carthage Co: Smith TN 37030

Landholding Agency: COE

Property Number: 31199011499

Status: Unutilized

Directions: US Highway 85

Reasons: Floodway

Unsuitable Properties

Building

Tennessee

Tract 2618 (Portion)

Cordell Hull Lake and Dam Project

Roaring River Recreation Area

Gainesboro Co: Jackson TN 38562

Landholding Agency: COE

Property Number: 31199011503

Status: Underutilized

Directions: TN Highway 135

Reasons: Floodway

Water Treatment Plant

Dale Hollow Lake Project

Obey River Park, State Hwy 42

Livingston Co: Clay TN 38351

Landholding Agency: COE

Property Number: 31199140011

Status: Excess

Reasons: Other—water treatment plant

Water Treatment Plant

Dale Hollow Lake Project

Lillydale Recreation Area, State Hwy 53

Livingston Co: Clay TN 38351

Landholding Agency: COE

Property Number: 31199140012

Status: Excess

Reasons: Other—water treatment plant

Unsuitable Properties

Building

Tennessee

Water Treatment Plant

Dale Hollow Lake Project

Willow Grove Recreational Area, Hwy No. 53

Livingston Co: Clay TN 38351

Landholding Agency: COE

Property Number: 31199140013

Status: Excess

Reasons: Other—water treatment plant

Comfort Station/Land

Cook Campground

Nashville Co: Davidson TN 37214

Landholding Agency: COE

Property Number: 31200420024

Status: Unutilized

Reasons: Floodway

Tracts 915, 920, 931C-1

Cordell Hull Dam/Reservoir

Cathage Co: Smith TN 37030

Landholding Agency: COE

Property Number: 31200430016

Status: Unutilized

Reasons: Floodway—Other—landlocked

Unsuitable Properties

Building

Tennessee

Residence #5

5050 Dale Hollow Dam Rd.

Celina Co: Clay TN 38551

Landholding Agency: COE

Property Number: 31200540010

Status: Unutilized

Reasons: Other—landlocked

Bldg.

Dale Hollow Lake Dam

Celina Co: Clay TN 38551

Landholding Agency: COE

Property Number: 31200610013

Status: Unutilized

Reasons: Extensive deterioration

Texas

Comfort Station

Overlook PUA

Powderly Co: Lamar TX 75473-9801

Landholding Agency: COE

Property Number: 31200240018

Status: Excess

Reasons: Extensive deterioration

148 Bldgs.

Texoma Lake

Denison TX

Landholding Agency: COE

Property Number: 31200740018

Status: Unutilized

Reasons: Extensive deterioration

Unsuitable Properties

Building

Texas

18 Bldgs.

Texoma Lake

Denison TX

Landholding Agency: COE

Property Number: 31200820012

Status: Unutilized

Reasons: Extensive deterioration

Bldg.

Stilling Basin

Pat Mayes Lake

Powderly TX 75473

Landholding Agency: COE

Property Number: 31200820013

Status: Unutilized

Reasons: Extensive deterioration

Virginia

Bldgs. JHK-17433, JHK-17446

John H. Kerr Project

Boydton VA

Landholding Agency: COE

Property Number: 31200740020

Status: Unutilized

Reasons: Extensive deterioration

Unsuitable Properties

Building

Virginia

Bldgs. 420, 421, 422

Naval Air Station

Virginia Beach VA 23460

Landholding Agency: Navy

Property Number: 77200830016

Status: Excess

Reasons: Extensive deterioration

Washington

Storage Bldg.

Lower Granite Lock & Dam

Pomeroy WA 99374

Landholding Agency: COE

Property Number: 31200820014

Status: Unutilized

Reasons: Extensive deterioration

Bldg. 7658

Naval Base

Bangor WA

Landholding Agency: Navy

Property Number: 77200830017

Status: Excess

Reasons: Secured Area—Extensive deterioration

Unsuitable Properties

Building

Wisconsin

SSA Federal Bldg.

304 Otter Ave.

Oshkosh WI 54901

Landholding Agency: GSA

Property Number: 54200820001

Status: Excess

GSA Number: 1-G-WI-603

Reasons: Within 2000 ft. of flammable or explosive material

Land

Arizona

58 acres

VA Medical Center

500 Highway 89 North

Prescott Co: Yavapai AZ 86313

Landholding Agency: VA

Property Number: 97190630001

Status: Unutilized

Reasons: Floodway

20 acres

VA Medical Center

500 Highway 89 North

Prescott Co: Yavapai AZ 86313

Landholding Agency: VA

Property Number: 97190630002

Status: Underutilized

Reasons: Floodway

Unsuitable Properties

Land

Florida

Encroachment No. GB-35

Perdido Key Co: Escambia FL 32507

Landholding Agency: GSA

Property Number: 54200810007

Status: Excess

GSA Number: 4-D-FL-6208AA

Reasons: Floodway—Not accessible by road

Encroachment No. GB-37

Perdido Key Co: Escambia FL

Landholding Agency: GSA

Property Number: 54200810009

Status: Excess

GSA Number: 4-D-FL-6208AB

Reasons: Floodway

Wildlife Sanctuary, VAMC

10,000 Bay Pines Blvd.

Bay Pines Co: Pinellas FL 33504

Landholding Agency: VA

Property Number: 97199230004

Status: Underutilized

Reasons: Other—Inaccessible

Unsuitable Properties

Land

Georgia

Tract J-916

Allatoona Operations Project

Canton GA

Landholding Agency: GSA

Property Number: 54200820010

Status: Excess

GSA Number: 4-D-GA-0424AB

Reasons: Floodway

Kentucky

Tract 4626

Barkley, Lake, Kentucky and Tennessee

Donaldson Creek Launching Area

Cadiz Co: Trigg KY 42211

Landholding Agency: COE

Property Number: 31199010030

Status: Underutilized

Directions: 14 miles from U.S. Highway 68.

Reasons: Floodway

Tract AA-2747

Wolf Creek Dam and Lake Cumberland

US HWY. 27 to Blue John Road

Burnside Co: Pulaski KY 42519

Landholding Agency: COE

Property Number: 31199010038

Status: Underutilized

Reasons: Floodway

Unsuitable Properties

Land

Kentucky

Tract AA-2726

Wolf Creek Dam and Lake Cumberland

KY HWY. 80 to Route 769

Burnside Co: Pulaski KY 42519

Landholding Agency: COE

Property Number: 31199010039

Status: Underutilized

Reasons: Floodway

Tract 1358

Barkley Lake, Kentucky and Tennessee

Eddyville Recreation Area

Eddyville Co: Lyon KY 42038

Landholding Agency: COE

Property Number: 31199010043

Status: Excess

Directions: U.S. Highway 62 to State Highway 93.

Reasons: Floodway

Barren River Lock No. 1

Richardsville Co: Warren KY 42270

Landholding Agency: COE

Property Number: 31199120008

Status: Unutilized

Reasons: Floodway

Unsuitable Properties

Land

Kentucky

Green River Lock No. 3

Rochester Co: Butler KY 42273

Landholding Agency: COE

Property Number: 31199120009

Status: Unutilized

Directions: Off State Hwy. 369, which runs off of Western Ky. Parkway

Reasons: Floodway

Green River Lock No. 4

Woodbury Co: Butler KY 42288

Landholding Agency: COE

Property Number: 31199120014

Status: Underutilized

Directions: Off State Hwy 403, which is off State Hwy 231

Reasons: Floodway

Green River Lock No. 5

Readville Co: Butler KY 42275

Landholding Agency: COE

Property Number: 31199120015

Status: Unutilized

Directions: Off State Highway 185

Reasons: Floodway

Unsuitable Properties

Land

Kentucky

Green River Lock No. 6

Brownsville Co: Edmonson KY 42210

Landholding Agency: COE

Property Number: 31199120016

Status: Underutilized

Directions: Off State Highway 259

Reasons: Floodway

Vacant land west of locksite

Greenup Locks and Dam

5121 New Dam Road

Rural Co: Greenup KY 41144

Landholding Agency: COE

Property Number: 31199120017

Status: Unutilized

Reasons: Floodway

Maryland

Tract 131R

Youghiogheny River Lake, Rt. 2, Box 100

Friendsville Co: Garrett MD

Landholding Agency: COE

Property Number: 31199240007

Status: Underutilized

Reasons: Floodway

Unsuitable Properties

Land

Minnesota

3.85 acres (Area #2)

VA Medical Center

4801 8th Street

St. Cloud Co: Stearns MN 56303

Landholding Agency: VA

Property Number: 97199740004

Status: Unutilized

Reasons: Other—landlocked

7.48 acres (Area #1)

VA Medical Center

4801 8th Street

St. Cloud Co: Stearns MN 56303

Landholding Agency: VA

Property Number: 97199740005

Status: Underutilized

Reasons: Secured Area

Mississippi

Parcel 1

Grenada Lake

Section 20

Grenada Co: Grenada MS 38901-0903

Landholding Agency: COE

Property Number: 31199011018

Status: Underutilized

Reasons: Within airport runway clear zone

Unsuitable Properties

Land

Missouri

Ditch 19, Item 2, Tract No. 230

St. Francis Basin Project

2½ miles west of Malden

Null Co: Dunklin MO

Landholding Agency: COE

Property Number: 31199130001

Status: Unutilized

Reasons: Floodway

Montana

Sewage Lagoons/40 acres

VA Center

Ft. Harrison MT 59639

Landholding Agency: VA

Property Number: 97200340007

Status: Excess

Reasons: Floodway

New York

Tract 1

VA Medical Center

Bath Co: Steuben NY 14810

Landholding Agency: VA

Property Number: 97199010011

Status: Unutilized

Directions: Exit 38 off New York State Route 17.

Reasons: Secured Area

Unsuitable Properties

Land

New York

Tract 2

VA Medical Center

Bath Co: Steuben NY 14810

Landholding Agency: VA

Property Number: 97199010012

Status: Underutilized

Directions: Exit 38 off New York State Route 17.

Reasons: Secured Area

Tract 3

VA Medical Center

Bath Co: Steuben NY 14810

Landholding Agency: VA

Property Number: 97199010013

Status: Underutilized

Directions: Exit 38 off New York State Route 17.

Reasons: Secured Area

Tract 4

VA Medical Center

Bath Co: Steuben NY 14810

Landholding Agency: VA

Property Number: 97199010014

Status: Unutilized

Directions: Exit 38 off New York State Route 17.

Reasons: Secured Area

Unsuitable Properties

Land

Ohio

Mosquito Creek Lake

Everett Hull Road Boat Launch

Cortland Co: Trumbull OH 44410-9321

Landholding Agency: COE

Property Number: 31199440007

Status: Underutilized

Reasons: Floodway

Mosquito Creek Lake

Housel-Craft Rd., Boat Launch

Cortland Co: Trumbull OH 44410-9321

Landholding Agency: COE

Property Number: 31199440008

Status: Underutilized

Reasons: Floodway

36 Site Campground

German Church Campground

Berlin Center Co: Portage OH 44401-9707

Landholding Agency: COE

Property Number: 31199810001

Status: Unutilized

Reasons: Floodway

Unsuitable Properties

Land

Pennsylvania

Lock and Dam #7

Monongahela River

Greensboro Co: Greene PA

Landholding Agency: COE

Property Number: 31199011564

Status: Unutilized

Directions: Left hand side of entrance roadway to project.

Reasons: Floodway

Mercer Recreation Area

Shenango Lake

Transfer Co: Mercer PA 16154

Landholding Agency: COE

Property Number: 31199810002

Status: Unutilized

Reasons: Floodway

Tract No. B-212C

Upstream from Gen. Jadwin Dam

Honesdale Co: Wayne PA 18431

Landholding Agency: COE

Property Number: 31200020005

Status: Unutilized

Reasons: Floodway

Unsuitable Properties

Land

Pennsylvania

Portion/Tract 117

E. of Strabane Ave.

Canonsburg PA

Landholding Agency: GSA

Property Number: 54200820003

Status: Excess

GSA Number: 4-B-PA-811

Reasons: Contamination

Tennessee

Brooks Bend

Cordell Hull Dam and Reservoir

Highway 85 to Brooks Bend Road

Gainesboro Co: Jackson TN 38562

Landholding Agency: COE

Property Number: 21199040413

Status: Underutilized

Directions: Tracts 800, 802-806, 835-837, 900-902, 1000-1003, 1025

Reasons: Floodway

Cheatham Lock and Dam

Highway 12

Ashland City Co: Cheatham TN 37015

Landholding Agency: COE

Property Number: 21199040415

Status: Underutilized

Directions: Tracts E-513, E-512-1 and E-512-2

Reasons: Floodway

Unsuitable Properties

Land

Tennessee

Tract 2321

J. Percy Priest Dam and Reservoir

Murfreesboro Co: Rutherford TN 37130

Landholding Agency: COE

Property Number: 31199010935

Status: Excess

Directions: South of Old Jefferson Pike

Reasons: Other—landlocked

Tract 6737

Blue Creek Recreation Area

Barkley Lake, Kentucky and Tennessee

Dover Co: Stewart TN 37058

Landholding Agency: COE

Property Number: 31199011478

Status: Underutilized

Directions: U.S. Highway 79/TN Highway 761

Reasons: Floodway

Tracts 3102, 3105, and 3106

Brimstone Launching Area

Cordell Hull Lake and Dam Project

Gainesboro Co: Jackson TN 38562

Landholding Agency: COE

Property Number: 31199011479

Status: Excess

Directions: Big Bottom Road

Reasons: Floodway

Unsuitable Properties

Land

Tennessee

Tract 3507

Proctor Site

Cordell Hull Lake and Dam

Project Celina Co: Clay TN 38551

Landholding Agency: COE

Property Number: 31199011480

Status: Unutilized

Directions: TN Highway 52

Reasons: Floodway

Tract 3721

Obey

Cordell Hull Lake and Dam

Project Celina Co: Clay TN 38551

Landholding Agency: COE

Property Number: 31199011481

Status: Unutilized

Directions: TN Highway 53

Reasons: Floodway

Tracts 608, 609, 611 and 612

Sullivan Bend Launching Area

Cordell Hull Lake and Dam Project

Carthage Co: Smith TN 37030

Landholding Agency: COE

Property Number: 31199011482

Status: Underutilized

Directions: Sullivan Bend Road

Reasons: Floodway

Unsuitable Properties

Land

Tennessee

Tracts 1710, 1716 and 1703

Flynns Lick Launching Ramp

Cordell Hull Lake and Dam Project

Gainesboro Co: Jackson TN 38562

Landholding Agency: COE

Property Number: 31199011484

Status: Underutilized

Directions: Whites Bend Road

Reasons: Floodway

Tract 1810

Wartrace Creek Launching Ramp

Cordell Hull Lake and Dam Project

Gainesboro Co: Jackson TN 38551

Landholding Agency: COE

Property Number: 31199011485

Status: Underutilized

Directions: TN Highway 85

Reasons: Floodway

Tract 2524

Jennings Creek

Cordell Hull Lake and Dam Project

Gainesboro Co: Jackson TN 38562

Landholding Agency: COE

Property Number: 31199011486

Status: Unutilized

Directions: TN Highway 85

Reasons: Floodway

Unsuitable Properties

Land

Tennessee

Tracts 2905 and 2907

Webster

Cordell Hull Lake and Dam Project

Gainesboro Co: Jackson TN 38551

Landholding Agency: COE

Property Number: 31199011487

Status: Unutilized

Directions: Big Bottom Road

Reasons: Floodway

Tracts 2200 and 2201

Gainesboro Airport

Cordell Hull Lake and Dam Project

Gainesboro Co: Jackson TN 38562

Landholding Agency: COE

Property Number: 31199011488

Status: Underutilized

Directions: Big Bottom Road

Reasons: Within airport runway clear zone—Floodway

Tracts 710C and 712C

Sullivan Island

Cordell Hull Lake and Dam Project

Carthage Co: Smith TN 37030

Landholding Agency: COE

Property Number: 31199011489

Status: Unutilized

Directions: Sullivan Bend Road

Reasons: Floodway

Unsuitable Properties

Land

Tennessee

Tract 2403

Hensley Creek

Cordell Hull Lake and Dam Project

Gainesboro Co: Jackson TN 38562

Landholding Agency: COE

Property Number: 31199011490

Status: Unutilized

Directions: TN Highway 85

Reasons: Floodway

Tracts 2117C, 2118 and 2120

Cordell Hull Lake and Dam Project

Trace Creek

Gainesboro Co: Jackson TN 38562

Landholding Agency: COE

Property Number: 31199011491

Status: Unutilized

Directions: Brooks Ferry Road

Reasons: Floodway

Tracts 424, 425 and 426

Cordell Hull Lake and Dam Project

Stone Bridge

Carthage Co: Smith TN 37030

Landholding Agency: COE

Property Number: 31199011492

Status: Unutilized

Directions: Sullivan Bend Road

Reasons: Floodway

Unsuitable Properties

Land

Tennessee

Tract 517

J. Percy Priest Dam and Reservoir

Suggs Creek Embayment

Nashville Co: Davidson TN 37214

Landholding Agency: COE

Property Number: 31199011493

Status: Underutilized

Directions: Interstate 40 to S. Mount Juliet Road.

Reasons: Floodway

Tract 1811

West Fork Launching Area

Smyrna Co: Rutherford TN 37167

Landholding Agency: COE

Property Number: 31199011494

Status: Underutilized

Directions: Florence Road near Enon Springs Road

Reasons: Floodway

Tract 1504

J. Perry Priest Dam and Reservoir

Lamon Hill Recreation Area

Smyrna Co: Rutherford TN 37167

Landholding Agency: COE

Property Number: 31199011495

Status: Underutilized

Directions: Lamon Road

Reasons: Floodway

Unsuitable Properties

Land

Tennessee

Tract 1500

J. Perry Priest Dam and Reservoir

Pools Knob Recreation

Smyrna Co: Rutherford TN 37167

Landholding Agency: COE

Property Number: 31199011496

Status: Underutilized

Directions: Jones Mill Road

Reasons: Floodway

Tracts 245, 257, and 256

J. Perry Priest Dam and Reservoir

Cook Recreation Area

Nashville Co: Davidson TN 37214

Landholding Agency: COE

Property Number: 31199011497

Status: Underutilized

Directions: 2.2 miles south of Interstate 40 near Saunders Ferry Pike

Reasons: Floodway

Tracts 107, 109 and 110

Cordell Hull Lake and Dam Project

Two Prong

Carthage Co: Smith TN 37030

Landholding Agency: COE

Property Number: 31199011498

Status: Unutilized

Directions: U.S. Highway 85

Reasons: Floodway

Unsuitable Properties

Land

Tennessee

Tracts 2919 and 2929

Cordell Hull Lake and Dam Project

Sugar Creek

Gainesboro Co: Jackson TN 38562

Landholding Agency: COE

Property Number: 31199011500

Status: Unutilized

Directions: Sugar Creek Road

Reasons: Floodway

Tracts 1218 and 1204

Cordell Hull Lake and Dam Project

Granville—Alvin Yourk Road

Granville Co: Jackson TN 38564

Landholding Agency: COE

Property Number: 31199011501

Status: Unutilized

Reasons: Floodway

Tract 2100

Cordell Hull Lake and Dam Project

Galbreaths Branch

Gainesboro Co: Jackson TN 38562

Landholding Agency: COE

Property Number: 31199011502

Status: Unutilized

Directions: TN Highway 53

Reasons: Floodway

Unsuitable Properties

Land

Tennessee

Tract 104 et al.

Cordell Hull Lake and Dam Project

Horshoe Bend Launching Area

Carthage Co: Smith TN 37030

Landholding Agency: COE

Property Number: 31199011504

Status: Underutilized

Directions: Highway 70 N

Reasons: Floodway

Tracts 510, 511, 513 and 514

J. Percy Priest Dam and Reservoir Project

Lebanon Co: Wilson TN 37087

Landholding Agency: COE

Property Number: 31199120007

Status: Underutilized

Directions: Vivrett Creek Launching Area, Alvin Sperry Road

Reasons: Floodway

Tract A-142, Old Hickory Beach

Old Hickory Blvd.

Old Hickory Co: Davidson TN 37138

Landholding Agency: COE

Property Number: 31199130008

Status: Underutilized

Reasons: Floodway

Unsuitable Properties

Land

Tennessee

Tract D, 7 acres

Cheatham Lock

Nashville Co: Davidson TN 37207

Landholding Agency: COE

Property Number: 31200020006

Status: Underutilized

Reasons: Floodway

Tract F-608

Cheatham Lock

Ashland Co: Cheatham TN 37015

Landholding Agency: COE

Property Number: 31200420021

Status: Unutilized

Reasons: Floodway

Tracts G702-G706

Cheatham Lock

Ashland Co: Cheatham TN 37015

Landholding Agency: COE

Property Number: 31200420022

Status: Unutilized

Reasons: Floodway

6 Tracts

Shutes Branch Campground

Lakewood Co: Wilson TN

Landholding Agency: COE

Property Number: 31200420023

Status: Unutilized

Reasons: Floodway

Unsuitable Properties

Land

Texas

Tracts 104, 105-1, 105-2

Joe Pool Lake

Null Co: Dallas TX

Landholding Agency: COE

Property Number: 31199010397

Status: Underutilized

Reasons: Floodway

Part of Tract 201-3

Joe Pool Lake

Null Co: Dallas TX

Landholding Agency: COE

Property Number: 31199010398

Status: Underutilized

Reasons: Floodway

Part of Tract 323

Joe Pool Lake

Null Co: Dallas TX

Landholding Agency: COE

Property Number: 31199010399

Status: Underutilized

Reasons: Floodway

Tract 702-3

Granger Lake

Route 1, Box 172

Granger Co: Williamson TX 76530-9801

Landholding Agency: COE

Property Number: 31199010401

Status: Unutilized

Reasons: Floodway

Unsuitable Properties

Land

Texas

Tract 706

Granger Lake

Route 1, Box 172

Granger Co: Williamson TX 76530-9801

Landholding Agency: COE

Property Number: 31199010402

Status: Unutilized

Reasons: Floodway

Virginia

FAA Outer Marker 19R

Norman's Station Rd.

Chantilly VA 20151

Landholding Agency: GSA

Property Number: 54200820020

Status: Surplus

GSA Number: 11-VA-1103AA

Reasons: Within 2000 ft. of flammable or explosive material. Within airport runway clear zone

West Virginia

Morgantown Lock and Dam

Box 3 RD # 2

Morgantown Co: Monongahelia WV 26505

Landholding Agency: COE

Property Number: 31199011530

Status: Unutilized

Reasons: Floodway

Unsuitable Properties

Land

West Virginia

London Lock and Dam

Route 60 East

Rural Co: Kanawha WV 25126

Landholding Agency: COE

Property Number: 31199011690

Status: Unutilized

Directions: 20 miles east of Charleston, W. Virginia.

Reasons: Other—.03 acres; very narrow strip of land

Portion of Tract #101

Buckeye Creek

Sutton Co: Braxton WV 26601

Landholding Agency: COE

Property Number: 31199810006

Status: Excess

Reasons: Other—inaccessible

[FR Doc. E8-18664 Filed 8-14-08; 8:45 am]

BILLING CODE 4210-67-P